OFFICE OF PERSONNEL MANAGEMENT

2004 Nonforeign Area Cost-of-Living Allowance Survey Report: Pacific and Washington, DC, Areas

AGENCY: Office of Personnel Management.

ACTION: Notice.

SUMMARY: This notice publishes the “2004 Nonforeign Area Cost-of-Living Allowance Survey Report: Pacific and Washington, DC, Areas.” The Federal Government uses the results of surveys such as these to set cost-of-living allowance (COLA) rates for General Schedule, U.S. Postal Service, and certain other Federal employees in Alaska, Hawaii, Guam and the Northern Mariana Islands, Puerto Rico, and the U.S. Virgin Islands. This report contains the results of the COLA surveys conducted by the Office of Personnel Management in Hawaii, Guam, and the Washington, DC, area during the spring and summer of 2004.

DATES: Comments on this report must be received on or before October 3, 2005.

ADDRESSES: Send or deliver comments to Donald J. Winstead, Deputy Associate Director for Pay and Performance Policy, Strategic Human Resources Policy Division, Office of Personnel Management, Room 7H31, 1900 E Street, NW., Washington, DC 20415-8200; fax: (202) 606-4264; or e-mail: COLA@opm.gov.

FOR FURTHER INFORMATION CONTACT: Donald L. Paquin, (202) 606-2838; fax: (202) 606-4264; or e-mail: COLA@opm.gov.

SUPPLEMENTARY INFORMATION: Section 591.229 of title 5, Code of Federal Regulations, requires the Office of Personnel Management (OPM) to publish nonforeign area cost-of-living allowance (COLA) survey summary reports in the Federal Register. We are publishing the complete “2004 Nonforeign Area Cost-of-Living Allowance Survey Report: Pacific and Washington, DC, Areas” with this notice. This report contains the results of the COLA surveys conducted by OPM in Hawaii, Guam, and the Washington, DC, area during the spring and summer of 2004.

Survey Results

Using an index scale with Washington, DC, area living costs equal to 100, OPM computed index values of relative prices in the Honolulu County, Hawaii County, Kauai County, Maui County, and Guam and the Commonwealth of the Northern Mariana Islands (CNMI) COLA areas. Then OPM added an adjustment factor of 5.0 to the Honolulu County price index, 7.0 to the Hawaii County, Kauai County, and Maui County price indexes, and 9.0 to the Guam/CNMI price index and rounded the results to the nearest whole percentage point. The results show that the COLA rates for Hawaii County, Kauai County, and Maui County should increase and that the COLA rates for Honolulu County and Guam/CNMI, which are at the statutory maximum (25 percent), should remain unchanged.

In a proposed rule published with this notice, OPM proposes to adjust COLA rates based on the results of the 2004 Pacific surveys. In that proposed rule, OPM also proposes to adjust COLA rates for the COLA areas in the Caribbean and Alaska based on surveys conducted by OPM in 2002 and 2003. OPM published the results of these surveys previously. (See Appendix 1 for a listing of previously published COLA survey reports.)

Office of Personnel Management.
Linda M. Springer,
Director.

2004 Nonforeign Area Cost-of-Living Allowance Survey Report: Pacific and Washington, DC, Areas

Table of Contents

Executive Summary

1. Introduction

1.1 Report Objectives

2. Preparing for the Survey

2.1 COLA Advisory Committees

2.2 Pre-Survey Meetings

2.3 Survey Item Selection

2.3.1 Special Considerations

2.4 Outlet Selection

2.5 Geographic Coverage

3. Conducting the Survey

3.1 Pricing Period

3.2 Non-Housing Price Data Collection

3.2.1 Data Collection Teams

3.2.2 Data Collection Process

3.3 Housing (Rental) Price Data Collection

4. Analyzing the Results

4.1 Data Review

4.2 Special Price Computations

4.2.1 K-12 Private Education

4.2.2 Guam Automobile Insurance

4.2.3 Health Insurance

4.2.4 Water Utilities

4.2.5 Energy Utilities Model

4.2.6 Rental Data Hedonic Models

4.3 Averaging Prices by Item and Area

4.4 Computing Price Indexes

4.4.1 Geometric Means

4.4.2 Special Private Education Computations

4.5 Applying Consumer Expenditure Weights

5. Final Results

6. Post Survey Meetings

List of Appendices

Appendix 1: Publication in the Federal Register of Prior Survey Results: 1990-2004

Appendix 2: Estimated DC Area Middle Income Annual Consumer Expenditures

Appendix 3: COLA Survey Items and Descriptions

Appendix 4: COLA Rental Survey Data Collection Elements

Appendix 5: Utility Usage and Calculations

Appendix 6: Hedonic Rental Data Equations and Results

Appendix 7: Final Living-Cost Results for COLA Areas

Executive Summary

The Government pays cost-of-living allowances (COLAs) to Federal employees in nonforeign areas in consideration of living costs significantly higher than those in the Washington, DC, area. The Office of Personnel Management (OPM) conducts living-cost surveys to set the COLA rates. The methodology for conducting these surveys is prescribed in regulation at subpart B of part 591 of title 5 of the Code of Federal Regulations, as modified by the proposed rule that accompanies this notice.

This report provides the results of the COLA surveys conducted by OPM in the spring and summer of 2004 in Honolulu County, Hawaii County, Kauai County, Maui County, Guam, and the Washington, DC, area. The report details OPM's comparison of living costs in these areas with living costs in the Washington, DC, area.

For the surveys, OPM contacted about 1,200 outlets and collected approximately 6,000 prices on more than 240 items representing typical consumer purchases. OPM then combined the data using consumer expenditure information developed by the Bureau of Labor Statistics. The final results are a series of living-cost indexes, shown in Table 1, that compare living costs in the surveyed areas to those in the Washington, DC, area. The index for the DC area (not shown) is 100.00 because it is, by law, the reference area. The living-cost indexes shown in Table 1 include the adjustment factor prescribed at 5 CFR 591.227.

Table 1.—Final Living-Cost Comparison Indexes
Allowance area | Index
Honolulu County, HI | 127.78
Hawaii County, HI | 119.11
Kauai County, HI | 130.58
Maui County, HI | 134.49
Guam/CNMI | 127.65

1. Introduction

1.1 Report Objectives

This report provides the results of the 2004 (i.e., “Pacific”) nonforeign area cost-of-living allowance (COLA) surveys conducted by the Office of Personnel Management (OPM) in the spring and summer of 2004. (Appendix 1 lists prior survey reports and their publication dates.) In addition to providing these results, this report describes how OPM prepared for and conducted the survey and how it analyzed the results. The results show comparative living-cost differences between the Pacific areas, i.e., Honolulu County, Hawaii County, Kauai County, Maui County, and Guam, and the Washington, DC, area. By law, Washington, DC, is the base or “reference” area for the COLA program.

2. Preparing for the Survey

2.1 COLA Advisory Committees

Before the Pacific surveys, OPM established COLA Advisory Committees (CACs) in Honolulu, the Hawaii County areas of Hilo and Kailua Kona, Kauai, Maui, and Guam. The settlement of Caraballo, et al. v. United States, No. 1997-0027 (D.V.I.), August 17, 2000, provides for employee involvement in the administration of the COLA program. In the Pacific surveys, as in the 2002 surveys in the Caribbean and the 2003 surveys in Alaska, OPM found it valuable to involve employee and agency representatives in planning and conducting the surveys and reviewing the survey results.

Each CAC is composed of approximately 12 agency and employee representatives from the survey area and 2 representatives from OPM. The functions of the CACs include the following:

—Advising and assisting OPM in planning COLA surveys;

—Providing or arranging for data collection observers during COLA surveys;

—Advising and assisting OPM in reviewing survey data;

—Advising OPM on its COLA program administration, including survey methodology;

—Assisting OPM in disseminating information to affected employees about the surveys and the COLA program; and

—Advising OPM on special situations or conditions, such as hurricanes and earthquakes, as they relate to OPM's authority to conduct interim surveys or implement some other change in response to conditions caused by a natural disaster or similar emergency.

2.2 Pre-Survey Meetings

To help OPM prepare for the COLA surveys, the CACs held 3-day meetings in Honolulu, Hilo, Kailua Kona, Kauai, Maui, and Guam. These were joint meetings of the CAC, Survey Implementation Committee (SIC), and Technical Advisory Committee (TAC). The SIC and the TAC were established pursuant to the Caraballo settlement. The SIC advises and assists OPM in the implementation of the new COLA methodology to which the parties agreed. The SIC consists of five plaintiffs' representatives from the COLA areas and two OPM representatives. The TAC consists of three economists who have expertise in living-cost measurement. The TAC performs research for and advises the SIC.

The CACs, SIC, and TAC reviewed the preliminary outlet and item lists developed by OPM for the surveys. The committee members researched the outlets and availability and appropriateness of the items in each area and made recommendations to OPM concerning the survey. OPM incorporated these recommendations into its survey design.

OPM found the work of the CACs, SIC, and TAC to be extremely helpful and informative. The SIC and TAC's knowledge of the Caraballo settlement, the new COLA methodology, and the economic concepts underlying that methodology, combined with the CACs' knowledge of the local area, the popularity of items and outlets, and other information about the COLA area, were invaluable in helping OPM plan the survey. These joint CAC, SIC, and TAC meetings were particularly important because, under the Caraballo settlement, the SIC and TAC dissolve on December 31, 2005.

2.3 Survey Item Selection

As described in Sections 2.1 and 2.2, OPM consulted with the CACs, SIC, and TAC as it selected survey items. OPM identified items to reflect a wide array of items consumers typically purchase. To determine what consumers purchase, OPM used the Bureau of Labor Statistics (BLS) 2000 Consumer Expenditure Survey (CES). OPM aggregated CES expenditures into the following nine major expenditure groups (MEGs):

—Food,

—Shelter and Utilities,

—Household Furnishings and Supplies,

—Apparel,

—Transportation,

—Medical,

—Recreation,

—Education and Communication, and

—Miscellaneous

OPM further subdivided each MEG into primary expenditure groups (PEGs). In all, there were 45 PEGs. For example, OPM subdivided Food into the following nine PEGs:

—Cereals and Bakery Products;

—Meats, Poultry, Fish, and Eggs;

—Dairy Products;

—Fresh Fruits and Vegetables;

—Processed Foods;

—Other Food at Home;

—Nonalcoholic Beverages;

—Food Away from Home; and

—Alcoholic Beverages.

To select survey items, OPM chose a sufficient number of items to represent each PEG and reduce overall price index variability. To do this, OPM applied the following guidelines: Each survey item should be—

—Relatively important (i.e., represent a fairly large expenditure) within the PEG;

—Relatively easy to find in both COLA and DC areas;

—Relatively common, i.e., what people typically buy;

—Relatively stable over time, e.g., not a fad item; and

—Subject to similar supply and demand functions.

In all, OPM selected over 240 non-housing items to survey. Appendix 2 shows how OPM organized the CES data into MEGs and PEGs, identifies the Detailed Expenditure Categories (DECs) for which OPM chose survey items, and shows estimated DC area middle income annual consumer expenditures for each DEC and higher level of aggregations.

Appendix 3 lists the non-housing items surveyed by OPM and their descriptions. Each of these items is specifically described with an exact brand, model, type, and size whenever practical. Thus, OPM priced exactly the same items or the same quality and quantity of items in both the COLA and DC areas. For example, OPM priced a 10.5-ounce can of Campbell's Vegetable Soup in both the COLA and DC areas because it is typical of canned soups, and consumers commonly purchase it.

2.3.1 Special Considerations

Health Insurance: It was not practical to compare the prices of exactly the same quality and quantity of health insurance between the COLA and Washington, DC, areas because the same array of plans is not offered in each area, and a significant proportion of Federal employees in both the COLA and DC areas subscribe to plans that are not available nationwide. To compare the employee health benefits premiums of these often highly different plans, OPM would have to adjust for differences in benefits and coverage. Research conducted by the parties prior to the Caraballo settlement indicated that this would not be feasible.

Therefore, OPM used the non-Postal Service employee's share of the Federal Employees Health Benefits premiums by plan for each plan offered in each area and obtained from OPM's Central Personnel Data File (CPDF) the number of white-collar Federal employees enrolled in each plan. As described in Section 4.2.3 below, OPM used these data to compute the average “price” of health insurance for Federal employees in the COLA and DC areas.

Housing: For housing items, OPM surveyed rental rates for specific kinds or classes of housing and collected detailed information about each housing unit. OPM surveyed the following classes of housing:

—Four bedroom, single family unit, not to exceed 3200 square feet;

—Three bedroom, single family unit, not to exceed 2600 square feet;

—Two bedroom, single family unit, not to exceed 2200 square feet;

—Three bedroom apartment unit, not to exceed 2000 square feet;

—Two bedroom apartment unit, not to exceed 1800 square feet; and

—One bedroom apartment unit, not to exceed 1400 square feet

Appendix 4 lists the types of detailed information collected by OPM. OPM did not collect homeowner data, such as mortgage payments, maintenance expenses, or insurance. Under the Caraballo settlement, the parties agreed to adopt a rental equivalence approach similar to the one BLS uses for the Consumer Price Index. Rental equivalence compares the shelter value (rental value) of owned homes, rather than total owner costs, because the latter are influenced by the investment value of the home (i.e., influenced by what homeowners hope to realize as a profit when they sell their homes). As a rule, living-cost surveys do not compare how consumers invest their money.

In the 2004 survey, OPM surveyed rents and used that as a surrogate for rental equivalence. In late 2004 and 2005, OPM conducted special research, the General Population Rental Equivalence Survey (GPRES), to obtain additional rent and rental equivalence information to determine whether the approach OPM uses is appropriate. Preliminary analyses of GPRES results support OPM's current approach, but those analyses continue. OPM will publish the GPRES results in a Federal Register notice at a later date.

Although OPM surveyed rental rates for the same classes of housing in each area, the type, style, size, quality, and other characteristics of each unit varied within each area and between the COLA and DC areas. As described in Section 4.2.6, OPM used hedonic regression analyses to hold these characteristics constant between the COLA and Washington, DC, area to make rental price comparisons.

2.4 Outlet Selection

Just as it is important to select commonly-purchased items and survey the same items in both the DC area and COLA areas, it is important to select outlets frequented by consumers and find comparable outlets in both the COLA and DC areas. To identify comparable outlets, OPM categorized outlets by type (e.g., grocery store, convenience store, discount store, hardware store, auto dealer, and catalog outlet). For example, OPM surveyed grocery items at supermarkets in all areas because most people purchase their groceries at such stores and because supermarkets exist in nearly all areas. Selecting comparable outlets is particularly important because of the significant price variations that may occur between dissimilar outlets (e.g., comparing the price of milk at a supermarket with the price of milk at a convenience store).

OPM used the above classification criteria and existing data sources, including previous COLA surveys, phone books, and various business listings, to develop initial outlet lists for the survey. OPM provided these lists to the CACs, SIC, and TAC and consulted with them on outlet selection. The committees helped OPM refine the outlet lists and identify other/additional outlets where local consumers generally purchase the items OPM planned to survey.

OPM also priced some items by catalog; when it did, it priced the same items by catalog in the COLA areas and in DC areas for comparative purposes. To ensure consistent catalog pricing, OPM used only current catalogs for all catalog survey items. OPM priced 12 items by catalog in the Pacific and DC areas. All catalog prices included any charges for shipping and handling and all applicable taxes.

In all, OPM surveyed prices from approximately 1,200 outlets. In the COLA survey areas, described below, OPM attempted to survey three popular outlets of each type, to the extent practical. For some outlet types, such as local phone service, there were not three outlets. In some areas, there were not a sufficient number of businesses to find three outlets of each particular type. In the Washington, DC, area, OPM attempted to survey nine popular outlets of each type, three in each of the DC survey areas described in Table 3.

2.5 Geographic Coverage

Table 3 shows the Pacific COLA and DC survey area boundaries.

Table 3.—Survey and Data Collection Areas
COLA areas and reference areas | Survey area
Honolulu County | City and County of Honolulu.
Hawaii County | Hilo area, Kailua Kona/Waimea area.
Kauai County | Kauai Island.
Maui County | Maui Island.
Guam/CNMI | Guam.
Washington, DC-DC | District of Columbia.
Washington, DC-MD | Montgomery County and Prince Georges County.
Washington, DC-VA | Arlington County, Fairfax County, Prince William County, City of Alexandria, City of Fairfax, City of Falls Church, City of Manassas, and City of Manassas Park.
Note: For selected items, such as golf and air travel, these survey areas include additional geographic locations beyond these jurisdictions.

OPM collected non-housing prices in outlets throughout the Pacific areas described in Table 3. To collect housing (i.e., rental) data, OPM contracted with Delta-21 Resources, Incorporated, a research organization with expertise in housing and rental data collection. Delta-21 surveyed rental rates in locations within these areas. In selecting the locations and sample sizes within these areas, OPM used tables from the 2000 census that showed the number of Federal employees and housing units by zip code.

To collect data in the DC area, OPM divided the area into three survey areas, as shown in Table 3. OPM collected non-housing prices in outlets throughout this area. OPM surveyed certain items, including golf, in areas beyond the counties and cities shown in Table 3. OPM also surveyed the cost of air travel from Ronald Reagan Washington National Airport, Washington Dulles International Airport, and Baltimore/Washington International Airport (BWI) and surveyed the price of a 5-mile taxi ride originating at these airports. Both Dulles and BWI are outside the counties and cities shown in Table 3. Nevertheless, DC area residents commonly use both of these airports.

Delta-21 surveyed rental rates throughout the DC area. As with the Pacific COLA areas, OPM used Census data to select specific locations and sample sizes within the DC area, and Delta-21 collected data accordingly within these locations.

3. Conducting the Survey

3.1 Pricing Period

OPM collected data from early March through May 2004. OPM collected non-housing price data concurrently in the Pacific areas in March and collected the bulk of the DC area data in April and May. Delta-21 collected rental data sequentially in Guam, Kauai, Kailua Kona/Waimea, Hilo, Maui, Honolulu County, and in the Washington, DC, area beginning on June 21, 2004, and ending on August 30, 2004.

3.2 Non-Housing Price Data Collection

3.2.1 Data Collection Teams

In both the COLA and Washington, DC, areas, OPM central office staff collected non-housing price data. In the COLA areas, data collection observers designated by the local CAC accompanied the OPM data collectors. Data collection observers were extremely helpful to OPM and the survey process by advising and assisting the data collectors in contacting outlets, matching items, and selecting substitutes. The observers also advised OPM on other living-cost and compensation issues relating to their areas. OPM did not use data collection observers in the Washington, DC, area, but OPM made the collected data available to the CACs.

3.2.2 Data Collection Process

The data collector/observer teams obtained most of the data by visiting stores, auto dealers, and other outlets. The teams also priced items, such as insurance, tax preparation fees, bank interest, and private education tuition, by telephone. As noted in Section 2.4, OPM surveyed some items via catalog, including all shipping costs and any applicable taxes in the price. OPM also collected other data, such as sales tax rates and airline fares, from Web sites on the Internet.

For all items subject to sales and/or excise taxes, OPM added the appropriate amount of tax to the price for computing COLA rates. For the Hawaii areas, OPM added 4.166 percent to account for the Hawaii general excise tax on businesses. In the DC area, sales tax rates varied by city, and some sales tax rates also varied by item, such as restaurant meals, within a location. Guam currently has no general sales or business tax that is passed on to the consumer separately at the time of sale.

The data collectors collected the price of the item at the time of the visit to the outlet. Therefore, with certain exceptions, the data collectors collected the sale price, if the item was on sale, and OPM used that sale price in the COLA calculations. The exceptions include coupon prices, going-out-of-business prices, clearance prices, and area-wide distress sales, which OPM does not use because they are atypical and/or seasonal. OPM also does not collect automobile “sale” or negotiated prices. Instead, OPM obtains the sticker (i.e., non-negotiated) price for the model and specified options. The prices are the manufacturer's suggested retail price (including options), destination charges, additional shipping charges, appropriate dealer-added items or options, dealer mark-up, and taxes, including sales tax and licensing and title fees.

3.3 Housing (Rental) Price Data Collection

As noted in Section 2.5, OPM contracted for the collection of rental data with Delta-21, which collected data in the Pacific areas and in the DC area. These data included rental prices, comprehensive information about the size and type of dwelling, number and types of rooms, amenities, and other important aspects of the dwelling that might influence the rental price. Appendix 4 lists the data elements collected by the contractor.

The contractor identified units for rent from various sources, including rental property managers, realtor brokers, listing services, newspaper ads, grocery store bulletin boards, and casual drive-by observation. The contractor then visited each rental unit, took a photograph of the unit, made a sketch of the floor plan based on exterior dimensions and shape, and noted the unit's longitude and latitude coordinates for mapping purposes and so that OPM could correlate the unit with census tract information from the Bureau of the Census. OPM made the rental data available to the CACs, including the photographs, sketches, and maps.

4. Analyzing the Results

4.1 Data Review

During and after the data collection process, the data collectors reviewed the data for errors and omissions. This involved reviewing the data item-by-item and comparing prices across outlets within an area to spot data entry errors, mismatches, and other mistakes.

After all of the data had been collected in both the COLA areas and the Washington, DC, area, OPM staff again reviewed the data by item across all of the areas. One purpose was to spot errors not previously detected, but the principal reason was to look at substitute items.

A substitute is an item that is similar but does not exactly match the description of the specified survey item. For example, one of the items OPM specified was a 20-pound bag of Iams dry dog food. The data collectors in the Pacific areas, however, discovered that some stores did not carry the 20-pound bag. Therefore, the data collectors priced an 8-pound bag instead. OPM then priced the same sized bag in the DC area and used the substitute price information for this item.

4.2 Special Price Computations

After completing its data review, OPM had to make special price computations for five survey items: K-12 private education, Federal Employees Health Benefits premiums, water utilities, energy utility prices, and rental prices. For each of these, OPM used special processes to calculate appropriate values for each survey area.

4.2.1 K-12 Private Education

One of the items OPM surveyed is the average annual tuition for private education, grades K-12, in each area. Generally, tuition rates varied by grade level, so OPM computed an overall average tuition “price” for each school surveyed by averaging the tuition rates grade-by-grade. Section 4.4.2 below describes the additional special adjustments OPM applied to these “prices” in the price comparison process.

4.2.2 Guam Automobile Insurance

OPM also surveyed the cost of automobile insurance. In each area, OPM surveyed the annual premium for the Chrysler, Ford, and Toyota automobiles specified in the survey. OPM collected the premiums for $100,000/$300,000 bodily injury; $25,000 property damage; $15,000 medical or $50,000 personal injury; $100,000/$300,000 uninsured motorist; $100 comprehensive deductible; and $250 collision deductible level of coverage. (See Appendix 3 for the complete item description.) OPM was able to obtain premiums for this level of coverage in all areas except Guam.

In Guam, insurance companies offered the same level of coverage for everything except medical and uninsured motorist coverage, for which they offered significantly lower levels of coverage. Therefore, OPM estimated the price of a policy in Guam as if the insurance companies offered the same levels of coverage found in the Washington, DC, area.

To do this, OPM computed average prices for the portion of the policies that were the same in both Guam and in the Washington, DC, area. Because only two of the three companies surveyed provided detail at that level in their price quotes, OPM could do this only for those two companies, although it adjusted the premiums for the third company as described in the next paragraph. OPM then computed price indexes for these partial insurance polices for Guam relative to the Washington, DC, area. Next, OPM multiplied the surveyed prices in Guam for the medical and uninsured motorist coverage by those indexes to derive higher estimated prices for the higher level of coverage. OPM then re-totaled the Guam premiums for the two companies using the higher prices for uninsured motorist and medical coverage.

To adjust the price of the premiums for the third insurance company, OPM first computed an adjustment factor that reflected the overall price increases for the other two companies. OPM then multiplied the price of the premiums at the third company by this factor to increase the prices of the policies for that company. The final result was a set of automobile insurance prices for all three companies that reflected the same level of coverage in both Guam and the Washington, DC, area to the extent practical.

4.2.3 Health Insurance

As noted in Section 2.3.1, OPM surveyed the non-Postal employees' premium for the various Federal Employees Health Benefits (FEHB) plans offered in each survey area. Using enrollment information from OPM's CPDF, OPM computed two weighted average premium costs—one for self-only coverage and another for family coverage—for white-collar Federal employees in each of the COLA areas and the Washington, DC, area. As shown in Table 4, OPM then computed an overall weighted average premium for each survey area by applying the number of white-collar Federal employees nationwide enrolled in self-only and family plans. OPM used these overall weighted average premiums as “prices” in the price averaging process described in Section 4.3 below.

Table 4.—2003 Average FEHB Premiums for Full-Time Permanent Employees
[Non-postal employees' share]
Location | Self premium | Family premium | Bi-weekly weighted average premium | Annual weighted average premium
Honolulu County | $36.22 | $80.14 | $62.72 | $1,636.32
Hawaii County | 35.48 | 79.13 | 61.82 | 1,612.84
Kauai County | 35.34 | 80.53 | 62.61 | 1,633.45
Maui County | 36.30 | 80.60 | 63.03 | 1,644.41
Guam/CNMI | 39.77 | 102.42 | 77.57 | 2,023.75
DC Area | 45.20 | 93.96 | 79.93 | 2,085.32
Nationwide Enrollment | 615,389 | 936,075 |  |
Enrollment Percentage | 39.67% | 60.33% |  |

4.2.4 Water Utilities

OPM surveyed water utility rates in each of the COLA and Washington, DC, survey areas. To compute the “price” of water utilities, OPM assumed that the average monthly water consumption in each area was 7,600 gallons. This is consistent with the consumption amount OPM used in the previous COLA survey. OPM used this quantity along with the rates charged to compute the average monthly water utility cost by survey area. OPM used these average monthly costs as “prices” in the price averaging process described in Section 4.3 below.

4.2.5 Energy Utilities Model collected from local utility companies and suppliers in the COLA and DC survey areas the price of various energy utilities used for lighting, cooking, cooling, and other household needs. OPM then used the results of a heating and cooling engineering model to determine how many kilowatt hours of electricity, cubic feet of gas, and/or gallons of fuel oil are needed to maintain a specific model home at a constant ambient temperature of 72 degrees in each area. The engineering model uses local home construction information and climatic data from the National Oceanic and Atmospheric Administration and also includes the amount of electricity needed to run standard household appliances and lighting. For each survey area, OPM calculated the cost to heat and cool the model home using the different heating fuels and electricity for lighting and appliances. Although some homes use additional energy sources, such as wood, coal, kerosene, and solar energy, OPM did not price or include these in the calculations because, based on the results of the 2000 census, relatively few homes use these as primary energy sources.

For the Pacific areas, OPM surveyed the price of electricity to compute home energy costs because the 2000 census indicated that electricity is the primary energy source in more than 95 percent of the homes in Hawaii and Guam. In the DC area, OPM surveyed the costs of all three fuels (gas, oil, and electricity). OPM used percentages based on the usage of the different fuels in each survey area to compute a weighted average utility fuel cost for the area. Appendix 5 shows the energy requirements, relative usage percentages, and total costs by area. OPM used these total costs as the “price” of utilities in the COLA rate calculations.

4.2.6 Rental Data Hedonic Models

As discussed in Sections 2.5 and 3.3, OPM hired a contractor to collect rental data, including rents and the characteristics of each rental unit. At the recommendation of the TAC, OPM associated these rental data with census tract information published by the Bureau of the Census. The TAC recommended the use of census tracts, which are relatively small geographically, because they may be good surrogates for neighborhoods. The TAC believes census tract characteristics, such as the percentage of school age children, should reflect the character and quality of the neighborhoods in which the rental units are found.

As prescribed by OPM regulations and working closely with the TAC, OPM used hedonic regression analysis, which is a type of multiple linear regression analysis, to compare rents in the COLA areas with rents in the DC area. Multiple linear regression is used to determine how the dependent variable (in this case rent) is influenced by the independent variables (in this case the characteristics of the rental unit). OPM found that only some of the housing characteristics collected by Delta-21 were statistically meaningful in determining what influenced rent in the Pacific and DC areas. OPM tested various approaches using different characteristics and shared the results with the TAC. The TAC recommended one specific approach, which OPM adopted. This equation used the independent variables listed below, although some of the variables were “crossed” (i.e., used interactively) with other variables:

Age of unit (i.e., number of years since built or extensively remodeled);

Age squared;

Air conditioning (yes/no);

Clothes dryer (yes/no);

Exceptional view (yes/no);

External condition (above average/average or below);

Furnished (yes/no);

Garage (yes/no);

Landlord provides electricity (yes/no);

Neighborhood condition (above average/average or below);

Number of square feet;

Number of square feet squared;

Number of bedrooms;

Number of bathrooms;

Percent school age children in census tract;

Percent with BA degree or higher in census tract;

Percent with BA degree squared;

Recreation facilities (yes/no);

Security devices or services (yes/no);

Unit Type (house/townhouse, duplex/triplex, high rise apartment, other apartment); and

Survey area (Honolulu County, Hilo, Kailua Kona/Waimea, Kauai, Maui, Guam, or the DC area).

As is common in this type of analysis and as was done in the research leading to the Caraballo settlement, OPM used semi-logarithmic regressions. The regression produces parameter estimates for each independent variable, including survey area. When the regression uses the Washington, DC, area as the base, the regression produces parameter estimates for each of the COLA survey areas: Honolulu County, Hilo area, Kailua Kona/Waimea area, Kauai County, Maui County, and Guam. The exponent of the survey area parameter estimate (i.e., after the estimate is converted from natural logarithms) multiplied by 100 (following the convention used to express indexes) is the survey area's rent index. This index reflects the difference in rents for the COLA survey area relative to the Washington, DC, area, while (in effect) holding other significant housing characteristics constant.

As it had with the 2002 and 2003 Caribbean and Alaska rental survey analyses, the TAC recommended a technical adjustment in the above calculations to correct for a slight bias caused by the use of logarithms. The exponent of the average of the logarithms of a series of numbers is always less than the average of the numbers. Therefore, at the TAC's recommendation, OPM added one-half of the standard deviation of the survey area parameter estimate before converting from natural logarithms. (See Arthur Goldberger, “Best Linear Unbiased Prediction in the Generalized Linear Regression Model,” Journal of the American Statistical Association, 1962.) Table 6 shows the resulting rent indexes. OPM used these indexes as “prices” in the price averaging process described in Section 4.3.

Table 6.—Rent Indexes
Area | Rent index
Honolulu County | 132.21
Hilo Area | 81.19
Kailua Kona\Waimea Area | 106.75
Kauai County | 117.61
Maui County | 127.62
Guam | 89.52
Washington, DC, Area | *100.00
* By definition, the index of the base area is always 100.00

Appendix 6 shows the regression equation in SAS code and the regression results. (SAS is a proprietary statistical analysis computer software package.)

4.3 Averaging Prices by Item and Area

After OPM collected, reviewed, and made special adjustments in the data (as required), OPM averaged the prices for each item by COLA survey area. For example, OPM priced a bag of sugar at three different grocery stores in Honolulu County and averaged these prices to compute a single average price for sugar in Honolulu. If OPM collected more than one price for a particular matched item within the same outlet (e.g., priced equivalent brands), OPM used the lowest price by item and outlet to compute the average. (The concept is that if the item and brands are equivalent, consumers will choose the one with the lowest price.) OPM repeated this item-by-item averaging process for each area.

For Washington, DC, area prices, OPM first averaged prices within each of the three DC survey areas described in Section 2.5. Then OPM computed a simple average of the three DC area survey averages to derive a single DC area average price for each survey item.

4.4 Computing Price Indexes

Next, OPM computed a price index for each of the items found in both the COLA survey area and in the Washington, DC, area. To do this, OPM divided the COLA survey area average price by the DC area average price and, following the convention used to express indexes, multiplied this by 100. For the vast majority of survey items, OPM next applied consumer expenditure weights. For a few items, however, OPM first applied special processes as described in Sections 4.4.1 and 4.4.2 below.

4.4.1 Geometric Means

As described in Section 2.3, OPM selected survey items to represent selected detailed expenditure categories (DECs). Generally, OPM surveyed only one item per DEC, but in a few cases, OPM surveyed multiple items at a single DEC. In these cases, OPM computed the geometric mean of the price indexes to derive a single price index for the DEC. (A geometric mean is the nth root of the product of n different numbers and is often used in price index computations.) For example, OPM surveyed two prescription drugs—Amoxicillin and Nexium. These two different prescription drugs represent a single DEC called “prescription drugs.” To derive a single price index for the DEC, OPM computed the geometric mean of the price index for Amoxicillin and the price index for Nexium.

4.4.2 Special Private Education Computations

As noted in Section 4.2.1, OPM surveyed K-12 private education in the COLA and DC areas and computed an average tuition “price” that reflected all grade levels. Because not everyone sends children to private school, OPM made an additional special adjustment for K-12 education by applying “use factors.” These use factors reflect the relative extent to which Federal employees make use of private education in the COLA and DC areas. For example, Table 8 shows a use factor of 2.0302 for Honolulu County. OPM computed this by dividing 26.86 percent (the percentage of Federal employees in Honolulu County with at least 1 child in a private school) by 13.23 percent (the percentage of DC area Federal employees with at least 1 child in a private school). OPM obtained the percentages from the results of the 1992/93 Federal Employee Housing and Living Patterns Survey, which is the most current comprehensive data available. Table 8 below shows the use factors and the adjusted price indexes for each COLA survey area.

Table 8.—Summary of Private Education Use Factors and Indexes
COLA survey area | Employees w/children in private schools: Local area | Employees w/children in private schools: DC area | Use factor | Price index | Price index w/use factor
Honolulu County | 26.86 | 13.23 | 2.0302 | 77.01 | 156.34
Hilo Area * | 18.94 | 13.23 | 1.4316 | 36.20 | 51.82
Kailua Kona/Waimea * | 18.94 | 13.23 | 1.4316 | 74.49 | 106.65
Kauai County | 22.46 | 13.23 | 1.6977 | 47.50 | 80.64
Maui County | 20.39 | 13.23 | 1.5412 | 58.09 | 89.53
Guam | 42.26 | 13.23 | 3.1943 | 48.03 | 153.41
* Use factor data available only for Hawaii County.

4.5 Applying Consumer Expenditure Weights

Next, OPM applied consumer expenditure weights to aggregate price indexes by expenditure group. As noted in Section 2.3, OPM used the results of the BLS Consumer Expenditure Survey to estimate the amounts middle income level consumers in the DC area spend on various items. Using expenditure weights, OPM combined the price indexes according to their relative importance. For example, shelter is the most important expenditure in terms of the COLA survey and represents about 30 percent of total consumer expenditures. On the other hand, the purchase of newspapers at newsstands represents less than 1/10th of 1 percent of total expenditures.

Beginning at the lowest level of expenditure aggregation (e.g., sub-PEG), OPM computed the relative importance of each survey item within the level of aggregation, multiplied the price index times its expenditure percentage, and summed the cross products for all of the items within the level of aggregation to compute a weighted price index for that level. OPM repeated this process at each higher level of aggregation (e.g., PEG and MEG). Appendix 7 shows these calculations for each COLA survey area at the PEG and MEG level.

The above process resulted in an overall price index for each of the Pacific COLA areas (shown in Appendix 7), but not for Hawaii County, which has two separate COLA survey areas. To compute an overall price index for Hawaii County, OPM computed weights based on the number of General Schedule (GS) and equivalent Federal employees stationed on the Hilo side of the island compared with the number stationed on the Kailua Kona/Waimea side of the island. OPM then multiplied each of the MEG indexes for Hilo and Kailua Kona by their respective GS employment weights and summed the cross products to produce an overall price index for Hawaii County. (See Appendix 7.) Table 9 shows the weights OPM used.

Table 9.—Hilo and Kailua Kona/Waimea Employment Weights
Area | GS employment | Weight (percent)
Hilo Area | 511 | 66.7
Kailua Kona/Waimea Area | 255 | 33.3
Total | 766 | 100.0

5. Final Results

To compute the overall living-cost index, OPM added to the price index a non-price adjustment factor. The parties in Caraballo negotiated these factors to reflect differences in living costs that might not be captured by the surveys, and OPM adopted these factors in regulation as part of the new methodology. The factor for Honolulu County is five index points. The factor for all other COLA areas in Hawaii is seven index points. The factor for Guam/CNMI is nine index points. The resulting living-cost indexes are shown in Table 10.

Table 10.—Final Living-Cost Comparison Indexes
Allowance area | Index
Honolulu County, HI | 127.78
Hawaii County, HI | 119.11
Kauai County, HI | 130.58
Maui County, HI | 134.49
Guam/CNMI | 127.65

6. Post Survey Meetings

In December 2004, the CACs, SIC, and TAC held 1-day joint meetings in Honolulu, Hilo, Kailua Kona, Kauai, Maui, and Guam to review the survey results. OPM provided the committee members with various reports showing all the data collected by OPM, examples of how OPM reviewed these data, the data OPM used in its analyses, and the results at the PEG and MEG level, as shown in Appendix 7. Members of the TAC explained how the rental data were analyzed and how OPM used expenditure weights to combine price indexes to reflect overall living costs.

Subsequent to these meetings, the Hilo CAC provided extensive comments on the Hilo 2004 rental data. OPM found these comments to be very helpful and made changes as appropriate in the rental data. The Hilo CAC also recommended merging all of the COLA areas in the State of Hawaii into a single COLA area. The Kona CAC, on the other hand, recommended that OPM establish a separate COLA area for the Kailua Kona/Waimea area. OPM reviewed these recommendations and determined that Hawaii County should remain a single COLA area for now. OPM will reconsider the definitions of the COLA areas in Hawaii after the next Pacific survey, which will be conducted in 2007.

Appendix 1—Publication in the Federal Register of Prior Survey Results: 1990—2003

Citation | Contents
69 FR 12002 | Report on 2003 living-cost surveys conducted in Alaska.
69 FR 6020 | Report on 2002 living-cost surveys conducted in Puerto Rico and the U.S. Virgin Islands.
65 FR 44103 | Report on 1998 living-cost surveys conducted in Alaska, Hawaii, Guam, Puerto Rico, and the U.S. Virgin Islands.
63 FR 56432 | Report on 1997 living-cost surveys conducted in Alaska, Hawaii, Guam, Puerto Rico, and the U.S. Virgin Islands.
62 FR 14190 | Report on 1996 living-cost surveys conducted in Alaska, Hawaii, Guam, Puerto Rico, and the U.S. Virgin Islands.
61 FR 4070 | Report on winter 1995 living-cost surveys conducted in Alaska.
60 FR 61332 | Report on summer 1994 living-cost surveys conducted in Hawaii, Guam, Puerto Rico, and the U.S. Virgin Islands.
59 FR 45066 | Report on winter 1994 living-cost surveys conducted in Alaska.
58 FR 45558 | Report on summer 1992 and winter 1993 living-cost surveys conducted in Alaska, Hawaii, Guam, Puerto Rico, and the U.S. Virgin Islands.
58 FR 27316 | Report on summer 1993 living-cost surveys conducted in Hawaii, Guam, Puerto Rico, and the U.S. Virgin Islands.
57 FR 58556 | Report on summer 1991 and winter 1992 living-cost surveys conducted in Alaska, Hawaii, Guam, Puerto Rico, and the U.S. Virgin Islands.
56 FR 7902 | Report on summer 1990 living-cost surveys conducted in Alaska, Hawaii, Guam, Puerto Rico, and the U.S. Virgin Islands.

Appendix 2.—Estimated DC Area Middle Income Annual Consumer Expenditures

(Asterisks show Detailed Expenditure Categories (DECs) for which OPM surveyed items.)

Level | Code |  | Category name | Expenditures
1 | TOTALEXP |  | Total Expenditure | $50,478.63
2 | FOODTOTL | MEG | Food | 6,295.89
3 | CERBAKRY | PEG | Cereals and bakery products | 469.08
4 | CEREAL |  | Cereals and cereal products | 166.15
5 | 010110 |  | Flour | 9.36
5 | 010120 |  | Prepared flour mixes | 15.24
5 | 010210 |  | Ready-to-eat and cooked cereals* | 92.05
5 | 010310 |  | Rice* | 20.51
5 | 010320 |  | Pasta, cornmeal and other cereal products* | 28.98
4 | BAKERY |  | Bakery products | 302.94
5 | BREAD |  | Bread | 86.62
6 | 020110 |  | White bread* | 36.93
6 | 020210 |  | Bread, other than white* | 49.69
5 | CRAKCOOK |  | Crackers and cookies | 69.88
6 | 020510 |  | Cookies* | 45.17
6 | 020610 |  | Crackers | 24.70
5 | 020810 |  | Frozen and refrigerated bakery products* | 23.52
5 | OTHBAKRY |  | Other bakery products | 122.92
6 | 020310 |  | Biscuits and rolls* | 41.87
6 | 020410 |  | Cakes and cupcakes* | 38.56
6 | 020620 |  | Bread and cracker products | 3.34
6 | 020710 |  | Sweetrolls, coffee cakes, doughnuts | 28.98
6 | 020820 |  | Pies, tarts, turnovers | 10.17
3 | ANIMAL | PEG | Meats, poultry, fish, and eggs | 763.51
4 | BEEF |  | Beef | 191.96
5 | 030110 |  | Ground beef* | 74.89
5 | ROAST |  | Roast | 32.98
6 | 030210 |  | Chuck roast* | 9.82
6 | 030310 |  | Round roast* | 7.66
6 | 030410 |  | Other roast | 15.51
5 | STEAK |  | Steak | 70.41
6 | 030510 |  | Round steak* | 11.50
6 | 030610 |  | Sirloin steak* | 21.63
6 | 030710 |  | Other steak | 37.29
5 | 030810 |  | Other beef | 13.67
4 | PORK |  | Pork | 117.76
5 | 040110 |  | Bacon* | 19.09
5 | 040210 |  | Pork chops* | 27.43
5 | HAM |  | Ham | 27.97
6 | 040310 |  | Ham, not canned* | 26.30
6 | 040610 |  | Canned ham* | 1.67
5 | 040510 |  | Sausage | 19.55
5 | 040410 |  | Other pork | 23.72
4 | OTHRMEAT |  | Other meats | 92.84
5 | 050110 |  | Frankfurters* | 19.84
5 | LNCHMEAT |  | Lunch meats (cold cuts) | 62.16
6 | 050210 |  | Bologna, liverwurst, salami* | 16.80
6 | 050310 |  | Other lunchmeats | 45.37
5 | LAMBOTHR |  | Lamb, organ meats and others | 10.84
6 | 050410 |  | Lamb and organ meats | 5.95
6 | 050900 |  | Mutton, goat and game | 4.89
4 | POULTRY |  | Poultry | 158.21
5 | CHICKEN |  | Fresh and frozen chickens | 125.84
6 | 060110 |  | Fresh and frozen whole chicken* | 34.20
6 | 060210 |  | Fresh and frozen chicken parts* | 91.63
5 | 060310 |  | Other poultry | 32.37
4 | FISHSEA |  | Fish and seafood | 168.07
5 | 070110 |  | Canned fish and seafood* | 23.42
5 | 070230 |  | Fresh fish and shellfish* | 99.54
5 | 070240 |  | Frozen fish and shellfish* | 45.11
4 | 080110 |  | Eggs | 34.67
3 | DAIRY | PEG | Dairy products | 348.56
4 | MILKCRM |  | Fresh milk and cream | 128.13
5 | 090110 |  | Fresh milk, all types* | 115.34
5 | 090210 |  | Cream | 12.78
4 | OTHDAIRY |  | Other dairy products | 220.43
5 | 100110 |  | Butter | 19.44
5 | 100210 |  | Cheese* | 105.53
5 | 100410 |  | Ice cream and related products* | 64.36
5 | 100510 |  | Miscellaneous dairy products | 31.10
3 | FRUITVEG | PEG | Fruits and vegetables | 385.44
4 | FRSHFRUT |  | Fresh fruits | 194.98
5 | 110110 |  | Apples* | 36.70
5 | 110210 |  | Bananas* | 33.87
5 | 110310 |  | Oranges* | 19.74
5 | 110510 |  | Citrus fruits, excluding oranges | 15.47
5 | 110410 |  | Other fresh fruits | 89.20
4 | FRESHVEG |  | Fresh vegetables | 190.46
5 | 120110 |  | Potatoes* | 35.89
5 | 120210 |  | Lettuce* | 24.14
5 | 120310 |  | Tomatoes* | 36.87
5 | 120410 |  | Other fresh vegetables | 93.56
3 | PROCFOOD | PEG | Processed Foods | 778.76
4 | PROCFRUT |  | Processed fruits | 136.45
5 | FRZNFRUT |  | Frozen fruits and fruit juices | 14.23
6 | 130110 |  | Frozen orange juice* | 7.17
6 | 130121 |  | Frozen fruits | 3.39
6 | 130122 |  | Frozen fruit juices | 3.67
5 | 130310 |  | Canned fruits* | 17.39
5 | 130320 |  | Dried fruit | 6.56
5 | 130211 |  | Fresh fruit juice | 26.62
5 | 130212 |  | Canned and bottled fruit juice * | 71.65
4 | PROCVEG |  | Processed vegetables | 87.29
5 | 140110 |  | Frozen vegetables * | 29.28
5 | CANDVEG |  | Canned and dried vegetables and juices | 58.01
6 | 140210 |  | Canned beans * | 14.02
6 | 140220 |  | Canned corn | 7.68
6 | 140230 |  | Canned miscellaneous vegetables | 17.88
6 | 140320 |  | Dried peas | 0.29
6 | 140330 |  | Dried beans | 2.45
6 | 140340 |  | Dried miscellaneous vegetables | 8.11
6 | 140310 |  | Dried processed vegetables | 0.31
6 | 140410 |  | Frozen vegetable juices | 0.05
6 | 140420 |  | Fresh and canned vegetable juices | 7.22
4 | MISCFOOD |  | Miscellaneous foods | 555.03
5 | FRZNPREP |  | Frozen prepared foods | 108.93
6 | 180210 |  | Frozen meals * | 30.41
6 | 180220 |  | Other frozen prepared foods | 78.52
5 | 180110 |  | Canned and packaged soups * | 37.66
5 | SNACKS |  | Potato chips, nuts, and other snacks | 113.33
6 | 180310 |  | Potato chips and other snacks * | 87.21
6 | 180320 |  | Nuts | 26.12
5 | CONDMNTS |  | Condiments and seasonings | 93.03
6 | 180410 |  | Salt, spices, other seasonings * | 22.78
6 | 180420 |  | Olives, pickles, relishes | 8.89
6 | 180510 |  | Sauces and gravies * | 42.23
6 | 180520 |  | Baking needs and miscellaneous products | 19.14
5 | OTHRPREP |  | Other canned and packaged prepared foods | 157.25
6 | 180611 |  | Prepared salads | 18.28
6 | 180612 |  | Prepared desserts * | 11.91
6 | 180620 |  | Baby food * | 27.52
6 | 180710 |  | Miscellaneous prepared foods | 99.28
6 | 180720 |  | Vitamin supplements | 0.26
5 | 190904 |  | Food prepared by consumer on out-of-town trips | 44.83
3 | OTHRFOOD | PEG | Other food at home | 193.31
4 | SWEETS |  | Sugar and other sweets | 117.73
5 | 150110 |  | Candy and chewing gum * | 77.44
5 | 150211 |  | Sugar * | 16.18
5 | 150212 |  | Artificial sweeteners * | 3.14
5 | 150310 |  | Jams, preserves, other sweets * | 20.98
4 | FATSOILS |  | Fats and oils | 75.57
5 | 160110 |  | Margarine * | 9.66
5 | 160211 |  | Fats and oils * | 22.52
5 | 160212 |  | Salad dressings * | 23.99
5 | 160310 |  | Nondairy cream and imitation milk | 8.56
5 | 160320 |  | Peanut butter | 10.85
3 | NALCBEVG |  | Nonalcoholic beverages | 233.77
4 | 170110 |  | Cola * | 80.16
4 | 170210 |  | Other carbonated drinks | 43.68
4 | COFFEE |  | Coffee | 32.17
5 | 170310 |  | Roasted coffee * | 21.36
5 | 170410 |  | Instant and freeze dried coffee | 10.80
4 | 170510 |  | Noncarbonated fruit flavored drinks * | 17.37
4 | 170520 |  | Tea | 13.85
4 | 200112 |  | Nonalcoholic beer | 0.82
4 | 170530 |  | Other nonalcoholic beverages and ice | 45.73
3 | FOODAWAY | PEG | Food away from home | 2,737.32
4 | RESTRANT |  | Meals at restaurants, carry-outs and other | 2,320.19
5 | LUNCH |  | Lunch | 873.65
6 | 190111 |  | Lunch at fast food, take-out, delivery, etc. * | 506.19
6 | 190112 |  | Lunch at full service restaurants * | 247.12
6 | 190113 |  | Lunch at vending machines/mobile vendors | 10.25
6 | 190114 |  | Lunch at employer and school cafeterias | 110.10
5 | DINNER |  | Dinner | 845.00
6 | 190211 |  | Dinner at fast food, take-out, delivery, etc. * | 287.84
6 | 190212 |  | Dinner at full service restaurants * | 550.87
6 | 190213 |  | Dinner at vending machines/mobile vendors | 3.33
6 | 190214 |  | Dinner at employer and school cafeterias | 2.95
5 | SNKNABEV |  | Snacks and nonalcoholic beverages | 360.78
6 | 190311 |  | Snacks/nonalcoholic bev. at fast food, etc. * | 244.08
6 | 190312 |  | Snacks/nonalcoholic bev. at full svc restaurants | 41.71
6 | 190313 |  | Snacks/nonalcoholic bev. at vending mach. etc. | 62.77
6 | 190314 |  | Snacks/nonalcoholic bev. cafeterias | 12.23
5 | BRKFBRUN |  | Breakfast and brunch | 240.76
6 | 190321 |  | Breakfast & brunch at fast food, take-out, etc. * | 130.52
6 | 190322 |  | Breakfast & brunch at full service restaurants * | 100.86
6 | 190323 |  | Breakfast & brunch at vending machines | 2.48
6 | 190324 |  | Breakfast & brunch at cafeterias | 6.89
4 | NONRESME |  | Non Restaurant Meals | 417.13
5 | 190901 |  | Board (including at school) | 22.99
5 | 190902 |  | Catered affairs | 57.90
5 | 190903 |  | Food on out-of-town trips | 227.85
5 | 790430 |  | School lunches | 78.00
5 | 800700 |  | Meals as pay | 30.38
3 | ALCBEVG | PEG | Alcoholic beverages | 386.15
4 | ALCHOME |  | At home | 246.23
5 | 200111 |  | Beer and ale * | 139.90
5 | 200210 |  | Whiskey | 16.41
5 | 200310 |  | Wine * | 59.74
5 | 200410 |  | Other alcoholic beverages | 30.18
4 | ALCAWAY |  | Away from home | 139.92
5 | BEERNALE |  | Beer and ale | 56.70
6 | 200511 |  | Beer and ale at fast food, take-out, etc. | 11.54
6 | 200512 |  | Beer and ale at full service restaurants * | 37.05
6 | 200513 |  | Beer and ale at vending machines, etc. | 0.25
6 | 200516 |  | Beer and ale at catered affairs | 7.86
5 | WINE |  | Wine | 22.78
6 | 200521 |  | Wine at fast food, take-out, delivery, etc. | 4.86
6 | 200522 |  | Wine at full service restaurants * | 17.02
6 | 200523 |  | Wine at vending machines and mobile vendors | 0.00
6 | 200526 |  | Wine at catered affairs | 0.91
5 | OTHALCBV |  | Other alcoholic beverages | 60.44
6 | 200531 |  | Other alcoholic bev. at fast food, take-out, etc. | 4.80
6 | 200532 |  | Other alcoholic bev. at full svc. restaurants | 24.64
6 | 200533 |  | Other alcoholic bev. at vending machines | 0.00
6 | 200536 |  | Other alcoholic bev. at catered affairs | 3.46
6 | 200900 |  | Alcoholic beverages purchased on trips | 27.53
2 | SHEL | MEG | Shelter and Utilities | 17,855.36
3 | SHELTER | PEG | Shelter | 15,892.77
4 | RNTLEQ |  | Rental Equivalence (estimated monthly X 12) | 12,571.68
4 | RENTXX |  | Rented Dwelling (rent minus tenants ins.) * | 2,790.60
4 | 350110 |  | Tenants Insurance (tenants ins X 2) * | 28.36
4 | OTHLODGE |  | Other Lodging (Other minus housing at school) | 502.14
3 | ENERUT | PEG | Energy Utilities * | 1,601.23
3 | WATERX | PEG | Water and other public services * | 361.36
2 | HHF&SUPP | MEG | Household Furnishings and Supplies | 3,051.71
3 | HHOPER | PEG | Household operations | 748.24
4 | HHPERSRV |  | Personal services | 494.17
5 | 340210 |  | Babysitting and child care * | 71.82
6 | 340211 |  | Child care in own home | 25.44
6 | 340212 |  | Child care outside own home | 46.38
5 | 340906 |  | Care for elderly, invalids, handicapped, etc. | 145.28
5 | 340910 |  | Adult day care centers | 3.33
5 | 670310 |  | Day-care centers, nursery, and preschools * | 273.75
4 | HHOTHXPN |  | Other household expenses | 254.06
5 | 340310 |  | Housekeeping services * | 53.30
5 | 340410 |  | Gardening, lawn care service * | 68.10
5 | 340420 |  | Water softening service | 4.60
5 | 340520 |  | Household laundry and dry cleaning, sent out | 1.46
5 | 340530 |  | Coin-operated household laundry & dry cleaning | 5.79
5 | 340914 |  | Services for termite/pest control | 6.10
5 | 340915 |  | Home security system service fee | 18.60
5 | 340903 |  | Other home services | 12.33
5 | 330511 |  | Termite/pest control products | 1.05
5 | 340510 |  | Moving, storage, freight express * | 42.65
5 | 340620 |  | Appliance repair, including service center | 13.74
5 | 340630 |  | Reupholstering, furniture repair | 9.70
5 | 340901 |  | Repairs/rentals of lawn/garden equip. | 4.58
5 | 340907 |  | Appliance rental | 0.77
5 | 340908 |  | Rental of office equipment for non-business use | 0.73
5 | 340913 |  | Repair of miscellaneous household equip. | 0.54
5 | 990900 |  | Rental and installation of dishwashers & disposals | 0.00
3 | HKPGSUPP | PEG | Housekeeping supplies | 659.37
4 | LAUNDRY |  | Laundry and cleaning supplies | 147.93
5 | 330110 |  | Soaps and detergents * | 83.46
5 | 330210 |  | Other laundry cleaning products | 64.47
4 | HKPGOTHR |  | Other household products | 362.13
5 | 330310 |  | Cleansing & toilet tissue, paper towels/nap.* | 74.28
5 | 330510 |  | Miscellaneous household products | 108.87
5 | 330610 |  | Lawn and garden supplies * | 178.99
4 | POSTAGE |  | Postage and stationery | 149.31
5 | 330410 |  | Stationery, stationery supplies, giftwraps * | 63.54
5 | 340110 |  | Postage | 83.73
6 | STAMP |  | Stamp * | 79.21
6 | PARPST |  | Parcel Post * | 4.52
5 | 340120 |  | Delivery services | 2.04
3 | TEX&RUGS | PEG | Textiles and Area Rugs | 168.54
4 | HHTXTILE |  | Household textiles | 142.15
5 | 280110 |  | Bathroom linens * | 23.02
5 | 280120 |  | Bedroom linens * | 70.60
5 | 280130 |  | Kitchen and dining room linens | 12.92
5 | 280210 |  | Curtains and draperies | 15.88
5 | 280220 |  | Slipcovers, decorative pillows | 5.40
5 | 280230 |  | Sewing materials for slipcovers, curtains, etc. | 12.81
5 | 280900 |  | Other linens | 1.51
4 | FLOORCOV |  | Floor coverings | 26.40
5 | RNTCARPT |  | Wall-to-wall carpeting (renter) | 2.67
6 | 230134 |  | Wall-to-wall carpet (renter) | 1.02
6 | 320163 |  | Wall-to-wall carpet (replacement)(renter) | 1.65
5 | 320111 |  | Floor coverings, nonpermanent * | 23.72
3 | FURNITUR | PEG | Furniture | 542.10
4 | 290110 |  | Mattress and springs * | 79.01
4 | 290120 |  | Other bedroom furniture | 90.09
4 | 290210 |  | Sofas | 141.93
4 | 290310 |  | Living room chairs * | 45.85
4 | 290320 |  | Living room tables | 20.16
4 | 290410 |  | Kitchen, dining room furniture * | 74.53
4 | 290420 |  | Infants' furniture | 9.59
4 | 290430 |  | Outdoor furniture | 15.83
4 | 290440 |  | Wall units, cabinets and other occasional furniture | 65.09
3 | MAJAPPL | PEG | Major appliances | 178.87
4 | 230116 |  | Dishwashers (built-in), disposals, range hoods | 12.58
5 | 230117 |  | Dishwasher—owned home | 1.26
5 | 230118 |  | Dishwasher rented home | 11.31
4 | 300110 |  | Refrigerators, freezers * | 52.04
5 | 300111 |  | Refrigerators, freezers (renter) | 6.39
5 | 300112 |  | Refrigerators, freezers (owned home) | 45.65
4 | 300210 |  | Washing machines * | 22.98
5 | 300211 |  | Washing machines (renter) | 2.99
5 | 300212 |  | Washing machines (owned home) | 19.99
4 | 300220 |  | Clothes dryers | 16.68
5 | 300221 |  | Clothes dryers (renter) | 2.91
5 | 300222 |  | Clothes Dryer (owned home) | 13.78
4 | 300310 |  | Cooking stoves, ovens * | 23.86
5 | 300311 |  | Cooking stoves, ovens (renter) | 2.04
5 | 300312 |  | Cooking stoves, ovens (owned home) | 21.81
4 | 300320 |  | Microwave ovens | 9.73
5 | 300321 |  | Microwave ovens (renter) | 2.03
5 | 300322 |  | Microwave ovens (owned home) | 7.70
4 | 300330 |  | Portable dishwasher | 0.70
5 | 300331 |  | Portable dishwasher (renter) | 0.34
5 | 300332 |  | Portable dishwasher (owned home) | 0.36
4 | 300410 |  | Window air conditioners | 40.31
5 | 300411 |  | Window air conditioners (renter) | 1.57
5 | 300412 |  | Window air conditioners (owned home) | 6.62
5 | 320511 |  | Electric floor cleaning equipment * | 24.41
5 | 320512 |  | Sewing machines | 3.22
5 | 300900 |  | Miscellaneous household appliances | 4.48
3 | SMAPPHWR | PEG | Small appliances, miscellaneous housewares | 124.04
4 | HOUSWARE |  | Housewares | 93.41
5 | 320310 |  | Plastic dinnerware | 1.51
5 | 320320 |  | China and other dinnerware * | 18.87
5 | 320330 |  | Flatware | 4.17
5 | 320340 |  | Glassware | 7.31
5 | 320350 |  | Silver serving pieces | 2.84
5 | 320360 |  | Other serving pieces | 2.08
5 | 320370 |  | Nonelectric cookware * | 31.21
5 | 320380 |  | Tableware, nonelectric kitchenware | 25.42
4 | SMLLAPPL |  | Small appliances | 30.64
5 | 320521 |  | Small electric kitchen appliances * | 22.93
5 | 320522 |  | Portable heating and cooling equipment | 7.71
3 | MISCHHEQ |  | Miscellaneous household equipment | 630.55
4 | 320120 |  | Window coverings | 17.09
4 | 320130 |  | Infants' equipment | 15.58
4 | 320140 |  | Laundry and cleaning equip. | 22.42
4 | 320150 |  | Outdoor equipment * | 28.38
4 | 320210 |  | Clocks | 8.20
4 | 320220 |  | Lamps and lighting fixtures | 11.65
4 | 320231 |  | Other household decorative items | 169.49
4 | 320232 |  | Telephones and accessories * | 44.27
4 | 320410 |  | Lawn and garden equipment * | 71.89
4 | 320420 |  | Power tools * | 59.20
4 | 320901 |  | Office furniture for home use * | 10.48
4 | 320902 |  | Hand tools * | 12.41
4 | 320903 |  | Indoor plants, fresh flowers * | 60.03
4 | 320904 |  | Closet and storage items | 11.49
4 | 340904 |  | Rental of furniture | 6.66
4 | 430130 |  | Luggage | 6.28
4 | 690210 |  | Telephone answering devices | 1.70
4 | 690220 |  | Calculators | 1.55
4 | 690230 |  | Business equipment for home use | 0.67
4 | 320430 |  | Other hardware | 13.11
4 | 690242 |  | Smoke alarms (owned home) | 1.32
4 | 690241 |  | Smoke alarms (renter) | 0.07
4 | 690243 |  | Smoke alarms (owned vacation) | 0.00
4 | 690245 |  | Other household appliances (owned home) | 10.42
4 | 690244 |  | Other household appliances (renter) | 1.94
4 | 320905 |  | Miscellaneous household equipment and parts | 44.27
2 | APPAREL | MEG | Apparel and services | 1,894.51
3 | MENBOYS | PEG | Men and boys | 426.37
4 | MENS |  | Men, 16 and over | 356.27
5 | 360110 |  | Men's suits * | 29.16
5 | 360120 |  | Men's sportcoats, tailored jackets | 8.37
5 | 360210 |  | Men's coats and jackets * | 36.38
5 | 360311 |  | Men's underwear * | 19.56
5 | 360312 |  | Men's hosiery | 16.47
5 | 360320 |  | Men's nightwear | 3.57
5 | 360330 |  | Men's accessories | 30.14
5 | 360340 |  | Men's sweaters and vests | 12.53
5 | 360350 |  | Men's active sportswear | 14.26
5 | 360410 |  | Men's shirts * | 92.32
5 | 360511 |  | Men's pants * | 70.83
5 | 360512 |  | Men's shorts, shorts sets | 12.00
5 | 360901 |  | Men's uniforms | 4.10
5 | 360902 |  | Men's costumes | 6.60
4 | BOYS |  | Boys, 2 to 15 | 70.10
5 | 370110 |  | Boys' coats and jackets | 5.67
5 | 370120 |  | Boys' sweaters | 2.84
5 | 370130 |  | Boys' shirts * | 10.74
5 | 370211 |  | Boys' underwear | 3.19
5 | 370212 |  | Boys' nightwear | 2.55
5 | 370213 |  | Boys' hosiery | 3.28
5 | 370220 |  | Boys' accessories | 3.78
5 | 370311 |  | Boys' suits, sportcoats, vests | 2.11
5 | 370312 |  | Boys' pants * | 20.67
5 | 370313 |  | Boys' shorts, shorts sets | 6.58
5 | 370903 |  | Boys' uniforms | 2.44
5 | 370904 |  | Boys' active sportswear | 3.13
5 | 370902 |  | Boys' costumes | 3.11
3 | WMNSGRLS | PEG | Women and girls | 726.18
4 | WOMENS |  | Women, 16 and over | 589.41
5 | 380110 |  | Women's coats and jackets * | 43.46
5 | 380210 |  | Women's dresses | 46.95
5 | 380311 |  | Women's sportcoats, tailored jackets | 4.29
5 | 380312 |  | Women's vests and sweaters * | 39.22
5 | 380313 |  | Women's shirts, tops, blouses * | 124.57
5 | 380320 |  | Women's skirts | 13.81
5 | 380331 |  | Women's pants * | 102.91
5 | 380332 |  | Women's shorts, shorts sets | 15.85
5 | 380340 |  | Women's active sportswear | 26.76
5 | 380410 |  | Women's sleepwear | 29.27
5 | 380420 |  | Women's undergarments | 41.84
5 | 380430 |  | Women's hosiery | 25.45
5 | 380510 |  | Women's suits | 29.07
5 | 380901 |  | Women's accessories | 26.79
5 | 380902 |  | Women's uniforms | 8.34
5 | 380903 |  | Women's costumes | 10.84
4 | GIRLS |  | Girls, 2 to 15 | 136.77
5 | 390110 |  | Girls' coats and jackets | 7.12
5 | 390120 |  | Girls' dresses and suits* | 15.64
5 | 390210 |  | Girls' shirts, blouses, sweaters* | 38.23
5 | 390221 |  | Girls' skirts and pants* | 28.04
5 | 390222 |  | Girls' shorts, shorts sets | 9.87
5 | 390230 |  | Girls' active sportswear | 8.91
5 | 390310 |  | Girls' underwear and sleepwear | 8.21
5 | 390321 |  | Girls' hosiery | 6.05
5 | 390322 |  | Girls' accessories | 5.53
5 | 390901 |  | Girls' uniforms | 4.13
5 | 390902 |  | Girls' costumes | 5.04
3 | INFANT | PEG | Children under 2 | 98.15
4 | 410110 |  | Infant coat, jacket, snowsuit | 2.88
4 | 410120 |  | Infant dresses, outerwear | 28.72
4 | 410130 |  | Infant underwear* | 54.63
4 | 410140 |  | Infant nightwear, loungewear* | 4.56
4 | 410901 |  | Infant accessories | 7.36
3 | FOOTWEAR | PEG | Footwear | 361.44
4 | 400110 |  | Men's footwear* | 116.54
4 | 400210 |  | Boys' footwear | 50.37
4 | 400310 |  | Women's footwear* | 150.52
4 | 400220 |  | Girls' footwear | 44.01
3 | OTHAPPRL | PEG | Other apparel products and services | 282.37
4 | 420110 |  | Material for making clothes | 8.54
4 | 420120 |  | Sewing patterns and notions | 10.97
4 | 430110 |  | Watches* | 15.10
4 | 430120 |  | Jewelry* | 111.63
4 | 440110 |  | Shoe repair and other shoe service | 1.36
4 | 440120 |  | Coin-operated apparel laundry/dry cleaning* | 51.21
4 | 440130 |  | Alteration, repair and tailoring of apparel | 6.71
4 | 440140 |  | Clothing rental | 4.10
4 | 440150 |  | Watch and jewelry repair | 6.81
4 | 440210 |  | Apparel laundry & cleaning not coin-operated* | 65.60
4 | 440900 |  | Clothing storage | 0.33
2 | TRANS | MEG | Transportation | 8,255.95
3 | MOTVEHCO | PEG | Motor Vehicle Costs | 4,513.14
4 | VEHPURCH |  | Vehicle purchases (net outlay) | 3,724.79
5 | NEWCARS |  | Cars and trucks, new* | 1,848.01
6 | 450110 |  | New cars | 1,010.59
6 | 450210 |  | New trucks | 837.59
5 | USECARS |  | Cars and trucks, used | 1,819.71
6 | 460110 |  | Used cars | 1,039.13
6 | 460901 |  | Used trucks | 780.58
5 | OTHVEHCL |  | Other vehicles | 57.07
6 | 450220 |  | New motorcycles | 25.25
6 | 450900 |  | New aircraft | 0.00
6 | 460902 |  | Used motorcycles | 31.82
6 | 460903 |  | Used aircraft | 0.00
4 | VEHFINCH |  | Vehicle finance charges | 464.39
5 | 510110 |  | Automobile finance charges* | 236.42
5 | 510901 |  | Truck finance charges | 209.65
5 | 510902 |  | Motorcycle and plane finance charges | 3.01
5 | 850300 |  | Other vehicle finance charges | 15.42
4 | LEASVEH |  | Leased vehicles | 189.11
5 | 450310 |  | Car lease payments | 97.53
5 | 450313 |  | Cash downpayment (car lease) | 6.32
5 | 450314 |  | Termination fee (car lease) | 0.10
5 | 450410 |  | Truck lease payments | 82.58
5 | 450413 |  | Cash downpayment (truck lease) | 1.92
5 | 450414 |  | Termination fee (truck lease)] | 0.66
4 | VEHXP&LV |  | Other Vehicle Expenses and Licenses | 134.85
5 | 520110 |  | State & Local Registration* | 74.33
6 | 520111 |  | Vehicle reg. state | 66.78
6 | 520112 |  | Vehicle reg. local | 7.55
5 | 520310 |  | Driver's license | 5.81
5 | 520410 |  | Vehicle inspection (added to S&L registration) | 8.22
5 | PARKING |  | Parking fees | 18.60
6 | 520531 |  | Parking fees in home city, excluding residence | 15.60
6 | 520532 |  | Parking fees, out-of-town trips | 3.00
5 | 520541 |  | Tolls | 8.35
5 | 520542 |  | Tolls on out-of-town trips | 3.36
5 | 520550 |  | Towing charges | 5.22
5 | 620113 |  | Automobile service clubs | 10.95
3 | GASOIL | PEG | Gasoline and motor oil | 1,381.31
4 | 470111 |  | Gasoline* | 1,252.70
4 | 470112 |  | Diesel fuel | 12.91
4 | 470113 |  | Gasoline on out-of-town trips | 101.98
4 | 470114 |  | Gasohol | 0.00
4 | 470211 |  | Motor oil | 12.69
4 | 470212 |  | Motor oil on out-of-town trips | 1.03
3 | CARP&R | PEG | Maintenance and repairs | 781.44
4 | CARPAR |  | Maintenance and Repair Parts | 178.68
5 | 470220 |  | Coolant, additives, brake, transmission fluids | 5.01
5 | 480110 |  | Tires—purchases, replaced, installed* | 102.66
5 | 480213 |  | Parts, equipment, and accessories* | 56.66
5 | 480214 |  | Vehicle audio equipment, excluding labor | 7.11
5 | 480212 |  | Vehicle products | 7.23
4 | CARREP |  | Maintenance and Repair Service * | 602.76
5 | 490000 |  | Misc. auto repair, servicing | 33.31
5 | 490110 |  | Body work and painting | 29.25
5 | 490211 |  | Clutch, transmission repair | 57.68
5 | 490212 |  | Drive shaft and rear-end repair | 8.48
5 | 490221 |  | Brake work, including adjustments | 65.88
5 | 490231 |  | Repair to steering or front-end | 17.83
5 | 490232 |  | Repair to engine cooling system | 24.69
5 | 490311 |  | Motor tune-up | 47.42
5 | 490312 |  | Lube, oil change, and oil filters | 75.38
5 | 490313 |  | Front-end alignment, wheel balance and rotation | 14.38
5 | 490314 |  | Shock absorber replacement | 6.83
5 | 490316 |  | Gas tank repair, replacement | 3.96
5 | 490318 |  | Repair tires and other repair work | 46.63
5 | 490319 |  | Vehicle air conditioning repair | 17.89
5 | 490411 |  | Exhaust system repair | 15.45
5 | 490412 |  | Electrical system repair | 35.66
5 | 490413 |  | Motor repair, replacement | 90.59
5 | 490900 |  | Auto repair service policy | 11.45
3 | 500110 | PEG | Vehicle insurance * | 898.90
3 | RENTVEH | PEG | Rented vehicles | 27.38
3 | PUBTRANS | PEG | Public transportation | 653.77
4 | 530110 |  | Airline fares * | 401.70
4 | 530210 |  | Intercity bus fares | 26.64
4 | 530510 |  | Intercity train fares | 23.41
4 | 530901 |  | Ship fares | 58.98
4 | LOCTRANS |  | Local Transportation (Not a CES item) | 143.04
5 | 530311 |  | Intracity mass transit fares | 81.26
5 | 530312 |  | Local trans. on out-of-town trips | 16.87
5 | 530411 |  | Taxi fares and limousine service on trips | 9.92
5 | 530412 |  | Taxi fares and limousine service * | 30.95
5 | 530902 |  | School bus | 4.03
2 | MEDICAL | MEG | Medical | 2,349.45
3 | HEALTINS | PEG | Health insurance * | 1,200.79
4 | COMHLTIN |  | Commercial health insurance | 239.84
5 | 580111 |  | Traditional fee for service health plan (not BCBS) | 78.16
5 | 580113 |  | Preferred provider health plan (not BCBS) | 161.68
4 | BCBS |  | Blue Cross, Blue Shield | 356.45
5 | 580112 |  | Traditional fee for service health plan (BCBS) | 62.69
5 | 580114 |  | Preferred provider health plan (BCBS) | 118.30
5 | 580312 |  | Health maintenance organization (BCBS) | 124.28
5 | 580904 |  | Commercial Medicare supplement (BCBS) | 45.03
5 | 580906 |  | Other health insurance (BCBS) | 6.15
4 | 580311 |  | Health maintenance organization (not BCBS) | 301.65
4 | 580901 |  | Medicare payments | 146.35
4 | COMEDOTH |  | Commercial Medicare suppl & health insurance | 156.49
5 | 580903 |  | Commercial Medicare supplement (not BCBS) | 88.03
5 | 580905 |  | Other health insurance (not BCBS) | 68.46
3 | MEDSERVS | PEG | Medical services | 707.61
4 | 560110 |  | Physician's services * | 181.00
4 | 560210 |  | Dental services * | 252.69
4 | 560310 |  | Eyecare services | 50.18
4 | 560400 |  | Service by professionals other than physician | 46.56
4 | 560330 |  | Lab tests, x-rays | 35.40
4 | 570110 |  | Hospital room * | 43.75
4 | 570210 |  | Hospital service other than room | 65.77
4 | 570240 |  | Medical care in retirement community | 0.00
4 | 570220 |  | Care in convalescent or nursing home | 15.11
4 | 570902 |  | Repair of medical equipment | 0.00
4 | 570230 |  | Other medical care services | 17.15
3 | DRUGS&ME | PEG | Drugs and Medical Supplies | 441.05
4 | DRUGS |  | Drugs | 346.85
5 | 550210 |  | Nonprescription drugs * | 49.88
5 | 550410 |  | Nonprescription vitamins | 30.82
5 | 540000 |  | Prescription drugs * | 266.14
4 | MEDSUPPL |  | Medical supplies | 94.20
5 | 550110 |  | Eyeglasses and contact lenses * | 52.60
5 | 550340 |  | Hearing aids | 8.94
5 | 550310 |  | Topicals and dressings * | 23.57
5 | 550320 |  | Medical equipment for general use | 2.89
5 | 550330 |  | Supportive and convalescent medical equipment | 4.55
5 | 570901 |  | Rental of medical equipment | 0.44
5 | 570903 |  | Rental of supportive, convalescent equipment | 1.22
2 | RECREATN | MEG | Recreation | 2,850.41
3 | FEESADM | PEG | Fees and admissions | 606.30
4 | 610900 |  | Recreation expenses, out-of-town trips | 32.13
4 | 620111 |  | Social, recreation, civic club membership * | 106.53
4 | 620121 |  | Fees for participant sports * | 91.47
4 | 620122 |  | Participant sports, out-of-town trips | 27.09
4 | 620211 |  | Movie, theater, opera, ballet * | 129.68
4 | 620212 |  | Movie, other admissions, out-of-town trips | 56.76
4 | 620221 |  | Admission to sporting events | 37.01
4 | 620222 |  | Admission to sports events, out-of-town trips | 18.92
4 | 620310 |  | Fees for recreational lessons * | 74.57
4 | 620903 |  | Other entertainment services, out-of-town trips | 32.13
3 | TVAUDIO | PEG | Television, radios, sound equipment | 361.69
4 | TELEVSN |  | Televisions | 186.16
5 | 310110 |  | Black and white tv | 0.90
5 | 310120 |  | Color TV—console | 37.90
5 | 310130 |  | Color TV—portable, table model * | 46.70
5 | 310210 |  | VCR's and video disc players * | 25.53
5 | 310220 |  | Video cassettes, tapes, and discs * | 43.39
5 | 310230 |  | Video game hardware and software | 27.73
5 | 340610 |  | Repair of tv, radio, and sound equipment | 3.11
5 | 340902 |  | Rental of televisions | 0.90
4 | AUDIO |  | Radios, sound equipment | 175.53
5 | 310311 |  | Radios | 3.65
5 | 310312 |  | Phonographs | 0.00
5 | 310313 |  | Tape recorders and players | 7.66
5 | 310320 |  | Sound components and component systems * | 19.50
5 | 310331 |  | Miscellaneous sound equipment | 7.64
5 | 310332 |  | Sound equipment accessories | 11.33
5 | 310334 |  | Satellite dishes | 0.76
5 | 310341 |  | CD, tape, record and video mail order clubs | 9.07
5 | 310342 |  | Records, CDs, audio tapes, needles * | 41.52
5 | 340905 |  | Rental of VCR, radio, and sound equipment | 0.11
5 | 610130 |  | Musical instruments and accessories | 25.03
5 | 620904 |  | Rental and repair of musical instruments | 1.18
5 | 620912 |  | Rental of video cassettes, tapes & discs * | 48.09
3 | PETSPLAY | PEG | Pets, toys, and playground equipment | 436.27
4 | PETS |  | Pets | 290.79
5 | 610310 |  | Pet food * | 134.54
5 | 610320 |  | Pet purchase, supplies, medicine | 67.85
5 | 620410 |  | Pet services | 15.87
5 | 620420 |  | Vet services * | 72.53
4 | 610110 |  | Toys, games, hobbies, and tricycles * | 141.49
4 | 610120 |  | Playground equipment | 4.00
3 | ENTEROTH | PEG | Other entertainment supplies, equipment, and services | 646.69
4 | UNMTRBOT |  | Unmotored recreational vehicles | 104.54
5 | 600121 |  | Boat without motor and boat trailers | 34.98
5 | 600122 |  | Trailer and other attachable campers | 69.56
4 | PWRSPVEH |  | Motorized recreational vehicles | 156.56
5 | 600141 |  | Purchase of motorized camper | 32.89
5 | 600142 |  | Purchase of other vehicle * | 60.89
5 | 600132 |  | Purchase of boat with motor | 62.79
4 | RNTSPVEH |  | Rental of recreational vehicles | 1.60
5 | 520904 |  | Rental noncamper trailer | 0.00
5 | 520907 |  | Boat and trailer rental out-of-town trips | 0.04
5 | 620909 |  | Rental of campers on out-of-town trips | 0.18
5 | 620919 |  | Rental of other vehicles on out-of-town trips | 1.03
5 | 620906 |  | Rental of boat | 0.06
5 | 620921 |  | Rental of motorized camper | 0.00
5 | 620922 |  | Rental of other RV's | 0.29
4 | 600110 |  | Outboard motors | 2.57
4 | 520901 |  | Docking and landing fees | 4.92
4 | RECEQUIP |  | Sports, recreation and exercise equipment | 220.78
5 | 600210 |  | Athletic gear, game tables, exercise equip * | 93.79
5 | 600310 |  | Bicycles | 24.50
5 | 600410 |  | Camping equipment | 19.39
5 | 600420 |  | Hunting and fishing equipment | 34.74
5 | 600430 |  | Winter sports equipment | 6.76
5 | 600901 |  | Water sports equipment | 18.22
5 | 600902 |  | Other sports equipment | 20.61
5 | 620908 |  | Rental and repair of miscellaneous sports equipment | 2.77
4 | PHOTOEQ |  | Photographic equipment, supplies and services | 135.73
5 | 610210 |  | Film * | 29.15
5 | 610220 |  | Other photographic supplies | 3.11
5 | 620330 |  | Film processing * | 42.28
5 | 620905 |  | Repair and rental of photographic equipment | 0.18
5 | 610230 |  | Photographic equipment | 33.25
5 | 620320 |  | Photographer fees | 27.77
4 | 610901 |  | Fireworks | 3.25
4 | 610902 |  | Souvenirs | 5.16
4 | 610903 |  | Visual goods | 1.41
4 | 620913 |  | Pinball, electronic video games | 10.16
3 | PERSPROD | PEG | Personal care products | 362.62
4 | 640110 |  | Hair care products * | 74.26
4 | 640120 |  | Nonelectric articles for the hair | 8.90
4 | 640130 |  | Wigs and hairpieces | 1.36
4 | 640210 |  | Oral hygiene products, articles | 34.58
4 | 640220 |  | Shaving needs | 21.06
4 | 640310 |  | Cosmetics, perfume, bath preparation * | 171.16
4 | 640410 |  | Deodorants, feminine hygiene, misc. pers. care | 38.52
4 | 640420 |  | Electric personal care appliances | 12.79
3 | PERSSERV | PEG | Personal care services | 272.89
4 | 650310 |  | Personal care service * | 272.47
4 | 650900 |  | Repair of personal care appliances | 0.43
3 | READING | PEG | Reading | 163.94
4 | 590110 |  | Newspapers | 64.70
5 | 590111 |  | Newspaper subscriptions * | 49.33
5 | 590112 |  | Newspaper, non-subscriptions * | 15.36
4 | 590210 |  | Magazines | 31.86
5 | 590211 |  | Magazine subscriptions * | 20.28
5 | 590212 |  | Magazines, non-subscriptions * | 11.58
4 | 590900 |  | Newsletters | 0.00
4 | 590220 |  | Books thru book clubs | 9.41
4 | 590230 |  | Books not thru book clubs * | 57.67
4 | 660310 |  | Encyclopedia and other sets of reference books | 0.30
2 | EDU&COMM | MEG | Education and Communication | 2,023.31
3 | EDUCATN | PEG | Education | 81.28
4 | 670210 |  | Elementary and high school tuition * | 65.50
4 | 660210 |  | School books, supplies, for elem. and H.S | 15.79
3 | COMMICAT | PEG | Communications | 1,726.83
4 | PHONE |  | Telephone services | 1,130.84
5 | 270101 |  | Telephone svcs in home city, excluding car * | 744.36
5 | 270102 |  | Telephone services for mobile car phones | 362.15
5 | 270103 |  | Pager service | 2.10
5 | 270104 |  | Phone cards | 22.24
4 | 690114 |  | Computer information services * | 143.34
4 | 270310 |  | Community antenna or cable TV * | 452.65
3 | COMP&SVC | PEG | Computers and Computer Services | 215.19
4 | 690113 |  | Repair of computer systems for nonbus. use | 3.75
4 | 690111 |  | Computers & hardware nonbusiness use * | 188.93
4 | 690112 |  | Computer software/accessories for nonbus. use | 22.50
2 | MISCMEG | MEG | Miscellaneous | 5,902.05
3 | TOBACCO | PEG | Tobacco products and smoking supplies | 231.85
4 | 630110 |  | Cigarettes * | 213.08
4 | 630210 |  | Other tobacco products | 17.35
4 | 630220 |  | Smoking accessories | 1.42
3 | MISC |  | Miscellaneous | 852.67
4 | 620925 |  | Miscellaneous fees | 3.31
4 | 620926 |  | Lotteries and pari-mutuel losses | 60.83
4 | 680110 |  | Legal fees * | 141.87
4 | 680140 |  | Funeral expenses * | 51.84
4 | 680210 |  | Safe deposit box rental | 4.18
4 | 680220 |  | Checking accounts, other bank service charges | 32.14
4 | 680901 |  | Cemetery lots, vaults, maintenance fees | 17.21
4 | 680902 |  | Accounting fees * | 49.48
4 | 680903 |  | Miscellaneous personal services | 51.76
4 | 710110 |  | Credit card interest and annual fees * | 341.82
4 | 900002 |  | Occupational expenses | 39.66
4 | 790600 |  | Expenses for other properties | 51.98
4 | 880210 |  | Interest paid, home equity line of credit | 0.00
4 | 620115 |  | Shopping club membership fees | 6.58
3 | INSPENSN |  | Personal insurance and pensions | 4,817.54
4 | LIFEINSR |  | Life and other personal insurance * | 465.85
5 | 700110 |  | Life, endowment, annuity, other personal ins. | 447.53
5 | 002120 |  | Other nonhealth insurance | 18.31
4 | PENSIONS |  | Pensions and Social Security | 4,351.69
5 | 800910 |  | Deductions for government retirement * | 103.66
5 | 800920 |  | Deductions for railroad retirement | 3.15
5 | 800931 |  | Deductions for private pensions | 401.77
5 | 800932 |  | Non-payroll deposit to retirement plans | 433.87
5 | 800940 |  | Deductions for Social Security | 3,409.24

Appendix 3—COLA Survey Items and Descriptions

Adhesive Bandages. One box of 30 adhesive bandages. Assorted sizes. Clear or flexible okay to use. (Note: in Virginia, add tax to this item.) Use: Band Aid.

Airfare Los Angeles. Lowest cost round trip ticket to Los Angeles, CA, 3-week advance reservation, departing and returning midweek and including Saturday night stay. Price non-refundable ticket. Disregard restrictions, super-saver fares, and special promotions. In reference area, price flights from Baltimore Washington International for Maryland, Reagan National for the District of Columbia, and Dulles for Virginia. Price all flights via Internet on same day during the DC area survey. Use: Major carrier.

Airfare Miami. Lowest cost round trip ticket to Miami, FL, 3-week advance reservation, departing and returning midweek and including Saturday night stay. Price non-refundable ticket. Disregard restrictions, super-saver fares, and special promotions. In reference area, price flights from Baltimore Washington International for Maryland, Reagan National for the District of Columbia, and Dulles for Virginia. Price all flights via Internet on same day during the DC area survey. Use: Major carrier.

Airfare Seattle. Lowest cost round trip ticket to Seattle, WA, 3-week advance reservation, departing and returning midweek and including Saturday night stay. Price non-refundable ticket. Disregard restrictions, super-saver fares, and special promotions. In reference area, price flights from Baltimore Washington International for Maryland, Reagan National for the District of Columbia, and Dulles for Virginia. Price all flights via Internet on same day during the DC area survey. Use: Major carrier.

Airfare St. Louis. Lowest cost round trip ticket to St. Louis, MO, 3-week advance reservation, departing and returning midweek and including Saturday night stay. Price non-refundable ticket. Disregard restrictions, super-saver fares, and special promotions. In reference area, price flights from Baltimore Washington International for Maryland, Reagan National for the District of Columbia, and Dulles for Virginia. Price all flights via Internet on same day during the DC area survey. Use: Major carrier.

Alternator (Ford). Price of a remanufactured 95 Amp alternator for a 1998 Ford Explorer 4.0L fuel injected V6 with A/C and automatic transmission to the consumer at a dealership. Report price net of core charge (i.e., price after core is returned). Report core charge in comments. If only new alternator available, report new price as match. If price varies whether dealer installs, assume dealer installs but do not price labor. Use: Dealer recommended brand.

Alternator (Toyota). Price of a remanufactured alternator for a 1998 Toyota Corolla LE sedan, 4 door, 1.8 liter, 4 cylinder, 16 valve, automatic transmission, to the consumer at a dealership. Report price net of core charge (i.e., price after core is returned). Report core charge in comments. If only new alternator available, report new price as match. If price varies whether dealer installs, assume dealer installs but do not price labor. Use: Dealer recommended brand.

Antacid. Ninety-six count size of extra strength tablets. Use: Tums EX 96 tablets.

Antibacterial Ointment. One ounce and ½ ounce tubes of antibacterial ointment. Use: Neosporin Original.

Apples. Price per pound, loose (not bagged) apples. If only bagged apples available, report bag weight. Use: Red Delicious.

Area Rug. Approximately 8 foot by 11 foot oval braided rug, flat woven, 3-ply yarn, wool/nylon/rayon blend, with multi-colored accents. Include sales tax and shipping and handling. Use: American Traditions. JC Penney catalog number: A751-0449.

Artificial Sweetener. Fifty-count package of artificial sweetener. Use: Equal.

Aspirin. Fifty tablets of regular strength aspirin. Use: Bayer, Regular Strength.

ATV, Honda. All terrain sports vehicle with 250-300cc engine. Electric start. Use: Honda 2004 Sportrax 300EX.

ATV, Yamaha. All terrain sports vehicle with 350cc engine. Electric start. Use: Yamaha Warrior.

Auto Finance Rate. Interest rate for a 4-year loan on a new car with a down payment of 20 percent. Assume the loan applicant is a current bank customer who will make payments by cash/check and not by automatic deduction from the account. Enter 7.65 percent as $7.650. If bank needs to know type of car, use specified Ford. Obtain interest rate and verify phone number. Use: Interest percentage rate.

Baby Food. Four ounce jar strained vegetables or fruit. Use: Gerber 2nd.

Babysitter. Minimum hourly wage appropriate to area. Use: Government wage data.

Baking Dish 8 X 8. Glass baking dish, 8 inch square glass, clear or tinted. Exclude baking dish with cover or lid. Use: Martha Stewart (K-Mart) and Anchor Hocking (Wal-Mart).

Baking Dish 9 X 13. Glass baking dish, 9 inch by 13 inch glass, clear or tinted. Exclude baking dish with cover or lid. Use: Pyrex.

Bananas. Price per pound of bananas. If sold by bunch, report price and weight of average sized bunch. Use: Available brand.

Bath Towel. Approximately 56 inch x 30 inch wide, 100 percent cotton, medium weight. Side hem is woven selvage. Bottom hem may be folded. Use: Springmaid (Wal-Mart) and Martha Stewart 3 Star (K-Mart).

Beer at Home (Cans). Six-pack of 12 ounce cans. Do not price refrigerated beer unless that is the only type available. Use: Budweiser.

Beer Away. All restaurant types. One glass of beer, draft if available. Check sales tax and include in price. Use: Budweiser.

Board Game. Price standard edition, not deluxe. Use: Sorry.

Book, Paperback. Store price (not publisher's list price unless that is the store price) for top selling fiction, paperback book. Also price via Amazon.com during the DC area survey. Use: Chesapeake Blue, by Nora Roberts and The King of Torts, by John Grisham.

Bowling. One game of open (or non-league) 10-pin bowling on a weekday (Monday-Friday) between the hours of 10 a.m.—5 p.m. Exclude shoe rental. If priced by the hour, report hourly rate divided by 5 (i.e., estimated number of games per hour) and note hourly rate in comments. Do not price duck-pin bowling. Use: Bowling.

Boy's Jeans. Relaxed fit, size range 9 to 14, pre-washed jeans, not bleached, stone-washed or designer jeans. Use: Levis 550 Relaxed Fit.

Boy's Polo Shirt. Knit polo-type short sleeve shirt with collar, solid color, cotton/polyester, size range 8 to 14. Use: Ralph Lauren (Macys) and Lands End (Sears).

Boy's T-Shirt. Screen-printed t-shirt for boys ages 8 thru 10 (sizes 7 to 14). Pullover with crew neck, short sleeves and polyester/cotton blend. Do not price team logo shirts. Use: Green Dog Blues (Macys) and Canyon River Blues (Sears).

Bread, Wheat. Loaf of sliced wheat bread, 16 ounces. Do not price store brand. Use: Roman Meal 16 oz.

Bread, Wheat, Butter Top. Loaf of sliced wheat bread, 20-24 ounces. Do not price store brand. Use: Home Pride. Love's Home Pride is an equivalent brand.

Bread, White. Loaf of sliced white bread, 22-24 ounces. Do not price store brand. Use: Wonder giant loaf. Love's is an equivalent brand.

Breakfast Full Service. Approximately two strips of bacon or two sausages, two eggs, toast, hash browns, coffee, and juice. Check sales tax and include in price. Use: Bacon and eggs breakfast.

Cable TV, Analog Service. One month of cable service. Include converter and universal remote fees. Do not price value packages or premium channels; i.e., Showtime, HBO, Cinemax. Do not report hook-up charges. Itemize taxes and fees as percent rates or amounts and add to price. Also try to obtain a bill from a local resident for comparison purposes. Use: Local provider.

Camera Film. Four-pack, 35 millimeter, 24 exposure, 400 ASA (speed). Use: Kodak Max 400.

Candy Bar. One regular size candy bar—weight approximately 1.55 to 2.13 ounces. Do not price king-size or multi-pack. Use: Snickers.

Canned Chopped Ham. Twelve ounce can of processed luncheon meat. Do not price turkey, light, or smoked varieties. Use: SPAM.

Canned Green Beans. Fourteen to 15 ounce can of plain-cut green beans. Use: Del Monte.

Canned Peaches. Fifteen to 16 ounce can of peaches. Use: Del Monte.

Canned Soup. Regular size (approx. 10.7 ounce) can of condensed soup. Not hearty, reduced fat, or salt free varieties. Use: Campbell's Chicken Noodle Soup.

Canned Tuna. Chunk light tuna, packed in spring water (6.0 to 6.13 ounces). Do not price fancy style or albacore. Use: Star Kist.

Cellular Phone 500 Minute Plan. Cellular phone service with 500 anytime minutes per month. Price via internet, all areas at the same time during the DC area survey. Call for fee information. Itemize taxes and fees and add to price. Also try to obtain a bill from a local resident for comparison purposes. Use: Major provider.

Cellular Phone 600 Minute Plan. Cellular phone service with 600 anytime minutes per month. Price via internet, all areas at the same time during the DC area survey. Call for fee information. Itemize taxes and fees and add to price. Also try to obtain a bill from a local resident for comparison purposes. Use: Major provider.

Cellular Phone 800 Minute Plan. Cellular phone service with 800 anytime minutes per month. Price via internet, all areas at the same time during the DC area survey. Call for fee information. Itemize taxes and fees and add to price. Also try to obtain a bill from a local resident for comparison purposes. Use: Major provider.

Cereal. Raisin bran cereal, approximately 20 ounce box. Use: Post Raisin Bran.

Charcoal Grill. Charcoal grill, heavy gauge, porcelain-enameled, steel lid, approximately 22.5 inches diameter, model 741001. Use: Weber 1 Touch Silver 22½″.

Charcoal Grill. Charcoal grill, heavy gauge, porcelain-enameled, steel lid, approximately 18.5 inches diameter, model 441001. Use: Weber 1 Touch Silver 18.5″.

Cheese. Twelve ounce package cheese, 16 slices. Okay to price two percent milk-reduced fat singles, but do not price fat free variety. Use: Kraft Singles, American.

Chicken Breast, Skinless, Boneless. Price per pound of USDA grade boneless, skinless, fresh chicken breasts. Price store brand if available, otherwise record brand. Note: Most “fresh” (i.e., not frozen) chicken is “chilled” to almost freezing. Use: Store brand.

Chicken, Whole Fryer, Fresh. Price per pound of USDA graded, whole fryer, fresh chicken. If multiple brands available, match the lowest priced item and note in comments. If frozen chicken available, price as substitute. Note: Most “fresh” (i.e., not frozen) chicken is “chilled” to almost freezing. Use: Available brand.

Chrysler. Purchase price of a 2004 Chrysler Sebring sedan, 4 door, 2.4 liter, 4 cylinder, 16 valve, four-speed automatic transmission. Please note the price of any special option packages. Use: Chrysler Sebring sedan.

Chrysler License, Registration, Taxes, & Inspection. License, registration, periodic taxes (e.g., road or personal property tax, but NOT one-time taxes such as sales tax), and inspection (e.g., safety and emissions) on the Chrysler specified for survey. Use: Specified Chrysler.

Chuck Roast, Boneless. Price per pound, fresh (not frozen or previously frozen) boneless beef chuck pot roast. Price USDA Select or un-graded if available. If not available, note USDA grade in comments. Use average size package; i.e., not family-pack, value-pack, super-saver pack, or equivalent. If multiple brands available (e.g., Angus), match the lowest priced item and note in comments. Use: Available brand.

Cigarettes. One pack filter kings. Include State and/or Federal tobacco tax in price if normally part of the price. Report sales tax in the same manner as any other taxable item. Use: Marlboro.

Coffee, Ground. Thirteen ounce can. Do not price decaffeinated or special roasts. Use: Folger's.

Compact Disc. Current best-selling CD. Do not price double CD's. Use: Norah Jones, Feels Like Home or Beyonce, Dangerously In Love.

Contact Lenses. One box of disposable contact lenses, three pairs in the box. A pair lasts 2 weeks. Use: Bausch & Lomb or Acuvue.

Cookies. Approximately sixteen ounce package of chocolate chip cookies. Use: Nabisco Chips Ahoy.

Cooking Oil. Forty-eight fluid ounce plastic bottle of vegetable oil. Use: Crisco.

Cordless Phone 2.4 GHz. Cordless phone, 2.4 GHz with Caller ID and Digital Answering Machine. Color: Black. Use: GE 2.4 GHz (27998GE6).

Cordless Phone 900 MHz. Cordless phone, 900MHz with Caller ID and Digital Answering Machine. Use: GE (26992GE1).

Credit Card Interest & Annual Fees. Obtain credit card interest rate of gold and platinum cards and apply it to the national average balance ($8,562) plus any annual fees charged by the bank. Obtain interest rate and charges and verify phone number. Use: Gold and platinum VISA/Master Card.

Cremation. Direct cremation. Includes removal of remains, local transportation to crematory, necessary body care and minimal services of the staff. Include crematory fee. Do not include price of urn. Ask if crematory fee, Medical Examiner fee, and minimum basic container is included. Ask if anything other than basic service, such as a funeral service, is included. Use: Cremation.

Cured Ham, Boneless. Price per pound of a boneless cured ham. If multiple brands available, match the lowest priced item and note in comments. Use: Hormel, Cure 81.

Day Care. One month of day care for a 3-year old child, 5 days a week, about 10 hours per day. If monthly rate is not available, (1) obtain weekly rate, (2) record rate in the comments section, and (3) multiply weekly rate by 4.33 to obtain monthly rate. Use: Day care.

Dental Clean and Check-Up. Current adult patient charge for routine exam, including two bite-wing x-rays and cleaning of teeth with light scaling and polishing. No special treatment of gums or teeth. Do not price an initial visit or specialist or oral surgeon. (Dental codes: 0120, 0272, 1110.) Use: Dentist.

Dental Crown. Cost of a full crown on a lower molar, porcelain fused to a high noble metal. Include price of preparation or restoration of tooth to accept crown. Price for an adult. (Dental code: 2750.) Use: Dentist.

Dental Filling. Lower molar, two surfaces resin-based composite filling. Price for an adult. (Dental code: 2392.) Use: Dentist.

Dining Table Set. Solid hardwood butcher-block top dining table with 6 coordinating slat-back chairs (2 bonus side chairs for a penny). Table measures 42 x 60”, expands to a 60” square with butterfly leaf, 29½” high. Chairs have an 18” seat height. Include sales tax and shipping and handling. Use: 5-piece casual dining set from JC Penney catalog number: A796-1323.

Dinner Full Service—Filet Mignon. Extra fine dining, fine dining, and Outback-type restaurants. Filet mignon (6 to 10 ounce) with 1 or 2 small side dishes (e.g., rice or potato), salad and coffee. Do not include tip. Check sales tax and include in price. Use: Filet mignon.

Dinner Full Service—Steak, Large. Extra fine dining, fine dining, and Outback-type restaurants. Steak (10 to 16 ounce) with 1 or 2 small side dishes (e.g., rice or potato), salad and coffee. Do not include tip. Check sales tax and include in price. Use: Steak dinner, large.

Dinner Full Service—Steak, Medium. Casual and pancake house restaurants. Approximately 8 to 12 ounce steak, with 1 or 2 small side dishes (e.g., rice or potato), side salad or salad bar, and coffee. Meal should not include dessert. If 8-12 ounce unavailable, price closest size and note in comments. Check sales tax and include in price. Use: Steak dinner, medium.

Dish Set. Patterned tableware, 20-piece set. Includes: 4 dinner plates, 4 luncheon plates, 4 bowls, 4 cups, and 4 saucers. Use: Corelle, Chutney.

Disposable Diapers. Grocery and discount stores. Pampers: Forty-eight count package, Stage 2 (child 12-18 lbs), Jumbo disposable diapers with koala fit grips. If Stage 2 is not available price a different stage Pampers Jumbo diaper, report as match, and note stage in comments. Huggies: Forty-eight count package, Step 2 (child 12-18 lbs), Jumbo, Ultratrim disposable diapers with stretch waist. If Step 2 is not available price a different step Huggies Jumbo diaper, report as match, and note step in comments. Use: Pampers, Baby Dry, Jumbo, Stage 2; Huggies, Ultratrim, Jumbo, Step 2.

Doctor Office Visit. Typical fee for office visit for an adult when medical advice or simple treatment is needed. Do not price initial visit. Exclude regular physical examination, injections, medications, or lab tests. Use general practitioner not pediatrician or other specialist. Medical Code: 99213. Use: Doctor.

Drill, Cord. Variable speed, ⅜ inch, reversible electric drill, approximately 5 amp. Use: Black & Decker DR200, Craftsman Model 10104 (Sears).

Drill, Cord (Extra Features). Variable speed, ⅜ inch, reversible electric drill, approximately 5 amp, keyless chuck, double gear reduction, built-in level. Use: Black & Decker DR201K.

Drill, Cordless. Variable speed, reversible, ⅜ inch keyless ratcheting chuck, 14.4 volt, electric drill with fast recharge, with battery charger. Use: DeWalt DW928K-2 (Sears item number 00926842000).

Dry Clean Man's Suit. Dry cleaning of a two-piece man's suit of typical fabric. Do not price for silk, suede or other unusual materials. Use: Dry cleaning.

DVD Movie. Current best-selling DVD movie. Do not price double DVDs. Use: Bruce Almighty or Seabiscuit.

DVD Player. Progressive scan 1-disc MP3/CD/DVD player. Use: Sony DVPNS425P and Sony DVP-NS725P; RCA DRC230N (K-Mart); RCA DRC212N (Wal-Mart).

Education, Private 6-12. Cost of tuition. Note if books and uniforms are included. If price varies by grade, record in comments price for each grade. Note any annual, recurring fees; i.e., registration, computer, activity, etc. If pricing at church-affiliated schools, note any rate differences for church members versus others. Use: Private school 6-12, private school K-12, private school K-8.

Eggs (White, Large). One dozen large white Grade A eggs. If multiple brands available, match the lowest priced item and note in comments. Use: Available brand.

Electric Bill. Total utility rates for electricity from utility function model, including all taxes and surcharges, etc. Use utility worksheets to collect data. Also try to obtain a bill from a local resident for comparison purposes. Use: Local provider.

Electric Broom. Electric broom style vacuum cleaner with 2 amp motor. Use: K-Mart: Eureka The Boss Bagless 164; Wal-Mart: Eureka The Boss Bagless 169.

Eye Round Roast, Boneless. Price per pound, fresh (not frozen or previously frozen) boneless eye round roast. Price USDA Select or ungraded if available. If not available, note USDA grade in comments. Use average size package, i.e., not family-pack, value-pack, super-saver pack, or equivalent. If multiple brands available (e.g., Angus), match the lowest priced item and note in comments. Use: Available brand.

Fast Food Breakfast. Egg McMuffin value meal, includes hash browns and coffee. Price medium size. Check sales tax and include in price. Use: Egg McMuffin Value Meal (Med.).

Fast Food Dinner Burger. Big Mac value meal, includes fries and soda. Price medium size. Check sales tax and include in price. Use: Big Mac Value Meal (Med.).

Fast Food Dinner Pizza. Medium cheese pizza (without extra cheese) with salad and small soft drink. Check sales tax and include in price. Use: Medium Cheese Pizza.

Fast Food Lunch Burger. Big Mac value meal, includes fries and soda. Price medium size. Check sales tax and include in price. Use: Big Mac Value Meal (Med.).

Fast Food Lunch Pizza. Personal size cheese pizza (without extra cheese) or one slice of cheese pizza. Include price of a small soft drink. Do not include price of salad or other side dishes. Check sales tax and include in price. Use: Cheese Pizza.

FEGLI (Life Insurance). Federal life insurance. This item is not surveyed locally because it is constant across all areas. Use: Federal Employees Group Life Insurance.

FEHB Insurance. Self only and family. This item is not surveyed locally. OPM provides premiums and enrollment data from Central Personnel Data File. Use: Federal Employees Health Benefits Insurance.

FERS/CSRS Contributions. Federal retirement contributions. This item is not surveyed locally because it is constant across all areas. Use: Federal Employees Retirement System and Civil Service Retirement System.

Filing Cabinet. Metal, two-drawer, vertical file cabinet, approximately 24 × 14 × 18 inches. File drawer accommodates hanging files. Use: K-Mart: ISD Classic File 150; Wal-Mart: Space Solutions Ready File 10002.

Film Processing 1 Hour. One-hour color film processing for 24 exposure, 35 mm, with either 3 × 5 or 4 × 6 inch single prints. Use: In-store processing.

Ford Explorer 4WD. Purchase price of a 2004 Ford Explorer XLT, 4 × 4, 4 door, 4.0 liter, 6 cylinder, 5-speed automatic overdrive transmission. Please note the price of any special option packages. Use: Ford Explorer XLT.

Ford License, Registration, Taxes, and Inspection. License, registration, periodic taxes (e.g., road or personal property tax, but NOT one-time taxes such as sales tax), and inspection (e.g., safety and emissions) on the Ford specified for survey. Use: Specified Ford.

Fresh Mahi-Mahi. Price per pound of fresh Mahi-Mahi fillet. Do not price previously frozen (PF) or specially prepared varieties. Do not price family-pack, value-pack, super-save pack, or equivalent. If multiple brands available, match the lowest priced item and note in comments. Use: Available brand.

Fresh Tuna Steak, Yellowfin (Ahi). Price one pound of tuna steak, yellowfin (Ahi), fresh. Do not price previously frozen (PF) or specially prepared varieties. Do not price family-pack, value-pack, super-save pack, or equivalent. If multiple brands available, match the lowest priced item and note in comments. Use: Available brand.

Frozen Fish Fillet. Price of one box (10 count) of frozen ocean whitefish breaded fillets. Use: Gorton's Lemon Herb flavor, approximately 18 ounce (if unavailable, price traditional crunchy as a substitute); Van de Kamp 10 count, approximately 21 to 25 ounce.

Frozen Orange Juice. Twelve fluid ounce can of orange juice concentrate (makes 48 fl ounces). Do not price calcium fortified, pulp free, country style, etc. Use: Minute Maid.

Frozen Peas. Sixteen ounce package of frozen petite or baby peas, no sauce or onions. Use: C&W Petite peas.

Frozen TV Dinner. One 11.75 ounce (approximate size) frozen dinner with vegetable and/or other condiment. Do not price Hungry Man or equivalent extra-portion sizes. Use: Swanson Roasted Carved Turkey Breast, Swanson Angus Beef Salisbury Steak.

Frozen Waffles. Ten count box of frozen waffles per package. Do not price fat-free or whole wheat varieties. Use: Eggo (10 ct).

Fruit Drink. Ten pack of fruit drink, not juice, any flavor. Use: Hi C fruit punch drink 10 pack.

Fruit Juice. Forty-eight-ounce glass or plastic bottle of cranberry juice. Use: Ocean Spray Cranberry Juice.

Gas. Price per gallon for self-service unleaded regular gasoline. Use: Major brand.

Gelatin. Three-ounce box gelatin dessert. Use: JELL-O.

General Admission Evening Film. Adult price for evening showing, current-release (currently advertised on television). Report weekend evening price if different from weekday. Use: Movie.

Girl's Dress. Girl's print dress, softly colored floral-print blue chiffon dress. Scoop neck, split sleeves. Polyester chiffon; lining is polyester, washable. Include sales tax and shipping and handling. Use: Hype print dress, JC Penney catalog number: A380-9973.

Girl's Jeans. Slim fit in the seat and thighs with flared legs and traditional 5-pocket styling, for girls ages 8 to 10 (size 7 to 14). Use: Ralph Lauren (Macys), Levis 517 (Sears).

Girl's Polo Type Top. Girl's polo cotton blend, striped or solid pattern. Price sizes 7 to 14 or S, M, and L in girl's sizes. Use: Ralph Lauren (Macys), Lands End (Sears).

Girl's Polo Type Top (Catalog). Girl's polo cotton/polyester blend, striped or solid pattern, straight bottom hem, 2-button front placket, with ribbed collar and cuffs; washable. Price sizes 7 to 14 or S, M, and L in girl's sizes. JC Penney catalog number: A373-0302. Include sales tax and shipping and handling. Use: Ruling Class.

Golf, Non Resort. Eighteen holes of golf on weekend with cart, tee-time approximately 2 p.m. Do not price par 3 courses. If only nine holes available, double price. If only daily rate available (unlimited number of holes), report the Saturday or Sunday rate. Price local resident fee. Use: Golf, non-resort.

Golf, Resort. Eighteen holes of golf on weekend with cart, tee-time approximately 2 p.m. Do not price par 3 courses. If only nine holes available, double price. If only daily rate available (unlimited number of holes), report the Saturday or Sunday rate. Price local resident fee (not hotel guest fee). Price outside of local jurisdiction if necessary. Use: Golf, resort.

Ground Beef. Price per pound, fresh (not frozen or previously frozen) ground beef or ground chuck. Price USDA Select or un-graded if available. If not available, note USDA grade in comments. Use average size package, i.e., not family-pack, value-pack, super-saver pack, or equivalent. If multiple brands available (e.g. Angus), match the lowest priced item and note in comments. Use: Available brand, 15% fat and 20% fat.

Hamburger Buns. Eight-count package of sliced enriched white hamburger buns. Do not price store brand. Use: Wonder. Love's is an equivalent brand.

Hand-Held Vacuum. Cordless, hand-held, vacuum with upholstery brush and crevice tool. Use: Black & Decker DustBuster 7.2 volt V7210 (K-Mart and Wal-Mart); 9.6 volt V9610 (Wal-Mart).

Health Club Membership. One-year regular, individual membership for existing member. Do not price special offers. If no yearly rate, price month and prorate. Service must include free weights, cardiovascular equipment, and aerobic classes. Note if pool, tennis, racquetball, or other service included. Use: Gold's Gym type.

Hospital Room. Daily charge for a private and semi-private room. Include food and routine care. Exclude cost of operating room, surgery, medicine, lab fees, etc. Do not price specialty rooms; e.g., those in cardiac care units. Use: Private room and semi-private room.

Hot Dogs, Beef Franks. Sixteen-ounce package, 10 count, USDA graded, all beef franks. Do not price chicken, turkey, extra lean, or fat free frankfurters. Use: Oscar Mayer Beef Franks.

Hot Dogs, Wieners. Sixteen-ounce package, 10 count, USDA graded, meat (e.g., turkey and pork) wieners. Do not price extra lean or fat free varieties. Use: Oscar Mayer Wieners.

Housekeeping (Hourly Wage). Local hourly wage for a housekeeper or janitor. BLS code 37-2012. Use: Government wage data.

Ice Cream. One-half gallon vanilla flavored ice cream. Do not price ice milk, fat free, sugar free, or frozen yogurt. Use: Breyers.

Ice Cream Cup. One scoop, vanilla ice cream in a cup. Do not price frozen yogurt or soft-serve ice cream. Use: Baskin Robbins type.

Ice Cream Cup (Gourmet). One scoop, vanilla ice cream in a cup. Do not price frozen yogurt or soft-serve ice cream. Use: Ben & Jerry's type.

Infant's Sleeper. One-piece sleeping garment with legs, covering the body including the feet. Stretch cotton/polyester terry. Washable. Can be packaged or hanging. Size: Newborn. Use: Carters Starters.

Insurance, Auto. Annual premium for Chrysler, Ford, and Toyota surveyed; 35-year-old married male, currently insured, no accidents/violations. Commuting 15 miles one-way/day, annual 15,000 miles. Bodily injury 100/300; property damage 25; medical 15 or personal injury protection 50; uninsured motorist 100/300; comprehensive deductible 100; and collision deductible 250. If this level of coverage is not available, price the policy with the closest coverage. In Guam, price optional typhoon coverage. Car values: Chrysler-$19,560; Ford—$32,045; Toyota—$16,095. Use: National company if available.

Internet Service Cable. Monthly charge for unlimited cable Internet access. Itemize taxes and fees and add to price. Also try to obtain a bill from a local resident for comparison purposes. Use: Local cable provider.

Internet Service, DSL. Monthly charge for unlimited DSL Internet access. Itemize taxes and fees and add to price. Also try to obtain a bill from a local resident for comparison purposes. Use: Local DSL provider.

Jelly. Eighteen-ounce jar of grape jelly or jam. Use: Welch's.

Jewelry Earring Set. A box set of fake diamond earrings and necklace. Use: Store brand.

Ketchup. Twenty-four-ounce plastic squeeze bottle. Use: Heinz.

Kitchen Range (Electric coil). Thirty inch free standing, self-cleaning, electric range with coil burners and standard size (small) glass window on oven door. Model numbers may vary slightly by dealer. Use: General Electric JBP24BBWH or CT, Kenmore model 22-92812, and Frigidaire FEF352AW.

Laptop Computer. Laptop with Mobile Intel Pentium 4 processor, 2.6 GHz, 512 MB, 40GB Hard Drive, 24x/10x/24x CDRW and 8x DVD combo, 15-inch monitor. Include tax and shipping and handling. Use: Gateway M350S.

Laundry Soap. Eighty fluid ounces of liquid household laundry detergent. Use: Cheer with Colorguard.

Lawn Care (Hourly Wage). Local wage for gardener/grounds keeper. BLS code 37-3011. Use: Government wage data.

Lawn Mower, Self Propelled. Twenty-one to 22 inch, self-propelled 6.5-6.75 HP gas lawn mower. Use: Craftsman 37849, Toro 20017, and Troy-Bilt 200 (12A566N063).

Lawn Trimmer, Gas. Gas powered 25cc 2-cycle engine, 17-18 inch wide cut. Straight or curved shaft okay. Bump or automatic line feed. Note: Model numbers may vary slightly by dealer. Use: Craftsman 79554, Homelite UT20778, and Troy-Bilt TB15CS (31cc).

LD Call, Chicago. Cost of a 10 minute call using regional carrier, received on a weekday in Chicago at 8 p.m. (Chicago time); direct dial. Itemize taxes and fees and add to price. Use: AT&T.

LD Call, Los Angeles. Cost of a 10 min call using regional carrier, received on a weekday in Los Angeles at 8 p.m. (LA time); direct dial. Itemize taxes and fees and add to price. Use: AT&T.

LD Call, New York. Cost of a 10 minute call using regional carrier, received on a weekday in New York at 8 p.m. (NY time); direct dial. Itemize taxes and fees and add to price. Use: AT&T.

Lettuce, Leaf, Red or Green. One each of red or green leaf lettuce. Note average weight in comments. Use: Available brand.

Lettuce, Romaine. Price one pound of romaine lettuce. If only sold by each, note an average weight in comments. Use: Available brand.

Lipstick. One tube, any color. Use: Revlon Super Lustrous and Maybelline.

Living Room Chair. Padded microsuede rocker/recliner. Polyester fabric. 36½ x 32½ x 41½”. 20” seat height. Include sales tax and shipping and handling. Use: Microsuede Rocker/Recliner, JC Penney catalog number A792-1069.

Lunch, Full Service. Pancake house and casual restaurants. Cheeseburger platter with fries and small soft drink. Check sales tax and include in price. Use: Cheeseburger platter.

Lunch Meat, All Beef. Eight ounce package, all-beef variety, sliced bologna. Use: Oscar Mayer Beef Bologna.

Lunch Meat, Regular. Eight ounce package, meat (i.e., chicken and pork) sliced bologna. Use: Oscar Mayer Meat Bologna.

Magazine. Store price (not publisher's list price unless that is the store price) for a single copy. Use: People.

Magazine Subscription. One-year home delivery price of a magazine. This is priced during the DC area survey via the Internet. Use: Time.com.

Man's Athletic Shoe (Shoe Store). Man's walking shoe, soft leather upper. Full-length Phylon midsole with low-pressure Air-Sole units in heel and forefoot. Composition rubber outsole. Use: Reebok Classic.

Man's Dress Shirt. White or solid color long sleeve button cuff plain collar dress shirt, 100 percent cotton. Use: Ralph Lauren (Macys) and Lands End (Sears).

Man's Dress Shoe, Leather Sole. Full leather lining, oak tanned/buffed leather outsoles, polished leather uppers, steel shank. Use: Bostonian Akron (Macys).

Man's Dress Shoe, Rubber Sole. Leather oxford with cushioned insole and heel pad. Shoe has combination leather and rubber sole. Use: Rockport (Macys).

Man's Dress Shoe, Catalog. Full-grain leather captoe oxford, leather upper, leather outsole, with leather lining and a comfort heel cup. Slip-resistant sole. Include sales tax and shipping and handling. Use: Florsheim Lexington Captoe, JC Penney catalog number A014-9043.

Man's Jacket. Man's light weight nylon jacket with drawstring hood and zip front, two front pockets with self-adhesive closure, elastic cuffs, drawcord bottom with polyester mesh lining; washable. Price regular size. Include sales tax and shipping and handling. Use: Woodlake Nylon Jacket, JC Penney catalog number A518-5055.

Man's Jeans. Relaxed-fit jeans. Use: Levis Red Tab 550.

Man's Khaki Pants. Man's casual khakis, any color, relaxed-fit or classic fit, no wrinkle, flat-front or pleated, cotton twill. Do not price expandable waistband. Use: Dockers.

Man's Khakis, Stain Defender. Man's khaki with stain-repellant fabric, no wrinkles and permanent creases, cuffed hems, cotton/micro polyester fabric, washable, regular size. Use: Dockers Go Khaki Stain Defender.

Man's Regular Haircut. Regular haircut for short to medium length hair. Use: Unisex hair salon.

Man's Sport Watch. Digital compass, 100-hour chronograph, INDIGLO night-light, water-resistant up to 100 meters, digital display, alarm, countdown timer. Strap/watch colors may vary. Different models represent different color of face or strap. Use: K-Mart: Timex Expedition (47512). If available, price same watch without digital compass as a substitute. Wal-Mart: Timex Expedition (77862).

Man's Suit. Six-button, double-breasted worsted wool suit coat, flap pockets, chest pocket, dry clean only. Regular size with full acetate lining. Price coat as a separate, not combo with trousers. Include sales tax and shipping and handling. Use: Stafford Suit Coat, JC Penney catalog number A957-0249.

Man's Undershirt. One package of three men's v-neck T-shirts, White, 100 percent cotton undershirts with short sleeves, regular size. Use: Jockey (Macys) and Hanes (Sears).

Margarine. One pound (4 sticks) regular margarine. If stick not available, price tub as a match. Do not price reduced fat variety. Use: Parkay and Fleischmann's.

Mattress and Foundation. Full-size mattress and foundation. Plush Sealy fiber quilted on top of a thick layer of Sealy foam and convoluted foam. Mattress thickness: 12′. Foundations consist of “Shock Abzzorber” wood slats over steel center rails. Include sales tax and shipping and handling. Use: Sealy Posturepedic Plush, JC Penney catalog numbers A799-5702 and A799-5703.

Mayonnaise. Thirty-two-ounce jar of mayonnaise. Do not price light or fat free. Use: Kraft.

Measuring Tape. Twenty-five-foot tape measure with powerlock. Use: Stanley (33-425).

Milk, Two Percent. One gallon, two percent milk. If multiple brands available, match the lowest priced item and note in comments. Use: Available brand.

Motor Scooter, Honda. Motor scooter, moped-legal, 49cc liquid-cooled single-cylinder four-stroke engine. Use: Honda 2004 CHF50P Metropolitan II.

Motor Scooter, Yamaha. Motor scooter, moped-legal, 49cc fan-cooled single-cylinder four-stroke engine. Use: Yamaha 2004 Vino.

Mover Driver (Hourly Wage). Local government hourly rate for truck driver light. BLS code 53-3033. Use: Government wage data.

Moving (Hourly Wage). Local hourly wage for a mover/material handler. BLS code 53-7062. Use: Government wage data.

Newspaper Subscription, Local. One-year of home delivery of the largest selling daily local paper (including Sunday edition) distributed in the area. Do not include tip. Use: Major local newspaper.

Newspaper, Newsstand, Local. Price of a local newspaper at a newsstand (in box), weekday issue. If a newsstand box is not available, price at a newsstand and indicate whether price includes tax. Use: Newspaper, newsstand, local.

Newspaper, Newsstand, National. Price of a New York Times newspaper, weekday issue, at a newsstand. Use: NY Times (newsstand).

Non-Aspirin Pain Reliever. Acetaminophen 500 mg. Use: Tylenol Extra Strength Geltabs 50-count and 100-count.

Oranges. Price per pound of loose, large, navel oranges. If only bagged oranges are available, also report the weight of the bag. Use: Available brand.

Parcel Post. Cost to mail a 5 pound package to Chicago, Los Angeles, and New York using regular mail delivery service. Use: United States Postal Service.

Pen. Ten-pack round stick medium point pen. Do not price crystal or clear type pens. Use: BIC (K-Mart) and Paper Mate (Wal-Mart).

Pet Food. Adult dry dog food. Use: Iams Chunks 8 lb. and 20 lb., and Purina O.N.E., 20 lb.

Piano Lessons. Monthly fee for half hour beginner private piano lessons for an adult, one lesson per week. Price through a music studio if possible. If only per lesson price is available, prorate using ½ hour lesson × 52/12. If only 1 hour lesson is available prorate accordingly. Use: Piano lessons.

Plant Food. Twenty-four ounce container of granulated all purpose plant food. Use: Miracle-Gro.

Pork Chops Center Cut, Boneless. Price per pound, fresh (not frozen or previously frozen) pork chops, center cut, boneless, loin chops. Use average size package, i.e., not family-pack, value-pack, super-saver pack, or equivalent. If multiple brands available, match the lowest priced item and note in comments. Use: Available brand.

Portable CD Player. Portable CD player, AM/FM-TV, weather bands, electronic skip protection, CD-R/RW compatible, with headphones. Use: Sony Walkman (D-FJ-210).

Potato Chips. One 5.2 to 6 ounce container of regular potato chips. Do not price fat free. Use: Pringles.

Potatoes. Price per pound of loose potatoes. If only bag potatoes available, report smallest size bag as substitute and note weight. Use: Russet or Idaho baking.

Prescription Drug 1. Nexium, 30 capsules 20 mg. Do not price generic. Use: Nexium.

Prescription Drug 2. Generic Amoxicil (i.e., Amoxicillin), 30 capsules, 250 mg. Use: Amoxicillin.

Printer, Color, Photo. Color inkjet printer, 5760 x 720 optimized dpi, 8 color ppm, USB connection. USB cable is not included. Include tax and shipping and handling. Use: Gateway, Epson Stylus Photo 825.

Red Roses. One dozen long stemmed, fresh cut red roses wrapped in floral paper, purchased in store—not delivered. Do not price boxed or roses arranged in vase. Use: Dozen red roses.

Refrigerator (Side-by-Side). Side-by-side refrigerator, approximately 25 to 26 cubic feet, with ice and water dispenser, and up-front temperature controls. Use: GE GSS25JFPWW, Frigidaire FRS26HF6BW, Frigidaire FRS26R2AW, and GE GSL25JFP.

Rental Data. Rental index from hedonic regressions. Use: Rental data.

Renter Insurance. One year of renters insurance (HO-4) coverage for $25,000 (low), $30,000 (middle), and $35,000 (upper) of contents. Policy must cover hurricane, earthquake, and other catastrophic damage. Note amount of liability coverage in comments; price minimum liability coverage if it varies. In Guam, assume concrete structure. Use: Major carrier.

Rice. Enriched white rice. Use: Mahatma 5-lb bag, extra long grain; Uncle Ben's Original 1-lb and 2-lb boxes, parboiled converted long grain.

Rip Claw Hammer. Twenty ounce, rip claw hammer with jacketed graphite handle and nylon vinyl grip. Use: Estwing E3-20S and Stanley 51-508.

Salt. Twenty-six ounce box of iodized salt. Use: Morton.

Shampoo. Fifteen ounce bottle for normal hair. Use: VO5.

Sheets. Sheets, 250 and 300 thread count cotton or cotton polyester blend. Queen size fitted or flat sheet, not a set. Use: Martha Stewart Everyday 4 Star, 250 thread count (K-Mart) and Springmaid, 300 thread count (Wal-Mart).

Shop Rate. Hourly shop rate for a mechanic at Chrysler, Ford, and Toyota dealerships. (Use auto dealer worksheet.) Use: Dealer shop rate.

Sirloin Steak, Boneless. Price per pound, fresh (not frozen or previously frozen) boneless beef top sirloin steak. Price USDA Select or un-graded if available. If not available, note USDA grade in comments. Use average size package; i.e., not family-pack, value-pack, super-saver pack, or equivalent. If multiple brands available (e.g., Angus), match the lowest priced item and note in comments. Use: Available brand.

Sliced Bacon. Sixteen ounce package USDA grade, regular slice. Do not price Canadian bacon, extra thick sliced, or extra lean bacon. Use: Oscar Mayer.

Snack Cake. One box (10 to a box) cream-filled type cake deserts. Not fresh baked desserts, individual servings, or larger family-style containers. Use: Hostess Twinkies.

Soft Drink. Twelve-pack of soft drink in 12 ounce cans. Use: Coca-Cola 12-pack (cans).

Spaghetti, Dry (National Brand). Sixteen ounce box or bag of pasta spaghetti. Use: Barilla.

Stamp. Cost of mailing a one ounce letter first class. Use: United States Postal Service.

Stand Mixer. Stand mixer with tilt-up head, 10-speeds, and 4½ quart stainless steel bowl. Includes flat beater, dough hook, wire whip, and power hub for additional attachments. Last two characters of model number denote color. Use: KitchenAid Ultra Power Series 300 watt KSM90WH (Macys and Sears) and KitchenAid Classic Series 250 watt K45SSWH (Wal-Mart).

Sugar. Five pound bag of granulated cane or beet name brand sugar. Do not price superfine, store brand, or generic. Use: National brand. C&H brand is an equivalent.

Tax Preparation. Flat rate for preparing individual tax Federal 1040 (long form), Schedule A, plus State or local equivalents. (Note: Some areas only have local income taxes.) Note number of forms in comments. Assume typical itemized deductions. If only hourly rate available, obtain estimate of the time necessary to prepare forms, prorate, and report as a substitute. Use: H&R Block type.

Taxi Fare. Cab fare, one way, from major airport to destination 5 miles away. Price fare for one passenger with two suitcases. In reference area, price rides from Baltimore Washington International for Maryland, Reagan National for the District of Columbia, and Dulles for Virginia. Use: Taxi fare.

Telephone Service. Monthly cost for unmeasured touchtone service. Exclude options such as call waiting, call forwarding or fees for equipment rental. Itemize taxes and fees and add to price. Also try to obtain a bill from a local resident for comparison purposes. Use: Local provider.

Television 27” flat-screen. Flat-screen, 27 inch, stereo, color, with remote. Note: Model numbers may vary slightly by dealer. Use: Sony Trinitron WEGA (KV-27FS100) and RCA 27F530T and Sanyo DS-27930 (Wal-Mart).

Tennis Balls. One can, 3 pressurized tennis balls designed for recreational play. Do not price premium type balls. Use: Wilson Championship.

Tire Regular (Chrysler). One tire, size P205/65R15 service description 92T, “original equipment” quality, black sidewall for the 2001 Chrysler Sebring sedan. Do not include mounting, balancing, or road hazard warranty. Use: Goodyear Regatta, Goodyear Eagle LS, Goodyear Integrity, Goodyear WeatherHandler LS (Sears), Michelin Symmetry, and Michelin WeatherWise (Sears).

Tire Regular (Ford). One tire, size P235/75 R15 service description 105S load rating SL, “original equipment” quality, black sidewall for the 2001 Ford Explorer XLT. Do not include mounting, balancing, or road hazard warranty. Use: Goodyear Wrangler RT/S and Michelin XCX-APT.

Tire Regular (Toyota). One tire, size P185/65R14 service description 85S, “original equipment” quality, black sidewall for a 2001 Toyota Corolla LE sedan. Do not include mounting, balancing, or road hazard warranty. Use: Goodyear Regatta, Goodyear Integrity, Goodyear WeatherHandler LS (Sears), Michelin Symmetry, and Michelin WeatherWise (Sears).

Toilet Tissue. Twelve-count single-roll type. Use: Angel Soft.

Tomatoes. Price per pound of medium-size tomatoes. If only available in cellophane pack, note price and weight of average size package. Do not price organic, “hydro”, plum, or extra fancy tomatoes. Use: Available brand.

Top Round Steak, Boneless. Price per pound, fresh (not frozen or previously frozen) boneless beef top round steak. Price USDA Select or un-graded if available. If not available, note USDA grade in comments. Use average size package; i.e., not family-pack, value-pack, super-saver pack, or equivalent. If multiple brands available (e.g., Angus), match the lowest priced item and note in comments. Use: Available brand.

Toyota. Purchase price of a 2004 Toyota Corolla LE sedan, 4 door, 1.8 liter, 4 cylinder, 16 valve, automatic transmission. Please note the price of any special option packages. Use: Toyota Corolla LE sedan.

Toyota License, Registration, Taxes, & Inspection. License, registration, periodic taxes (e.g., road or personal property tax, but NOT one-time taxes such as sales tax), and inspection (e.g., safety and emissions) on the Toyota specified for survey. Use: Specified Toyota.

Veterinary Services. Routine annual exam for a small dog (approximately 25 to 30 pounds). Do not price booster shots, medication, or other extras such as nail clipping, ear cleaning, etc. Use: Veterinary services.

Video Rental. Minimum rental rate for VHS movie, rented on a Saturday night. Use: Spider-Man VHS.

Wash, Single Load. One load, regular size wash using a front loading washing machine. Approximate capacity: 2.8 cubic foot or 18 pounds. Exclude cost of drying. Use: Coin laundry.

Washing Machine, Front Load. White 3.34 cubic feet, 27 inch, front load washer with LED touchpad controls. Use: Maytag Neptune (MAH5500B).

Washing Machine, Top Load. Top loader, 5 water levels, 7 temperature settings, 4 rinse options. Use: Kenmore 24-9523.

Water Bill. Average monthly consumption in gallons and dollars (e.g., cost for first _gallons; cost for over _gallons), sewage and related charges, and customer service charge. Also try to obtain a bill from a local resident for comparison purposes. Use: Water bill.

Will Preparation. Hourly rate for a lawyer (not a paralegal) to prepare a simple will. If only flat rate available, record flat rate amount and divide by average amount of hours it would take to prepare will and note in comments. Use: Legal service.

Wine at Home. Chardonnay wine, 750 ml. any vintage. Use: Turning Leaf.

Wine Away. Casual, fine dining, extra fine dining, and Outback type restaurants. One glass of house white wine. Check sales tax and include in price. Use: House wine.

Woman's Athletic Shoe (Shoe store). Woman's walking shoe, soft leather upper. Full-length Phylon midsole with low-pressure Air-Sole units in heel and forefoot. Composition rubber outsole. Use: Reebok Classic.

Woman's Blouse. Long sleeve, button front blouse with minimum or no trim. Washable. May or may not have shoulder pads. Price regular size. Do not price in Woman's or Plus size. Note brand in comments. Use: Charter Club long sleeve, 100 percent cotton (Macys) and Laura Scott short sleeve, 100 percent polyester (Sears).

Woman's Blue Jeans. Blue jeans. Machine washable, five pocket with zipper fly, loose fit, straight leg or tapered. Price regular size. Do not price in Woman's or Plus size sections. Do not price elastic waist. Use: Calvin Klein (Macys) and Lee original relaxed fit (Sears).

Woman's Casual Khakis. Woman's casual khakis, any color, flat-front or pleated pants, machine washable, all cotton. Price regular size. Do not price in Woman's or Plus size sections. Use: Style & Company (Macys) and Lands End (Sears).

Woman's Cut and Style. Wash, cut, and styled blow dry for medium length hair. Exclude curling iron if extra. Price hair salons in major department stores and malls. Use: Medium length hair.

Woman's Dress (Cold Water Creek). Silk georgette layered over polyester georgette; two-piece look with elasticized waist. Dry clean. Include sales tax and shipping and handling. Use: Tropical Print Dress. Cold Water Creek catalog number R29827.

Woman's Dress (Spiegel). Pink and rose-colored flower patterned, rayon, dry clean only, misses floral print dress. Misses: 4-16. Include sales tax and shipping and handling. Use: Misses Floral Print Dress. Spiegel catalog number A90 628 8417.

Woman's Jacket. Woman's denim jacket with classic styling, slim-fit and adjustable side tabs, chest pockets, 100 percent cotton or cotton/Lycra spandex; washable. Price regular size. Include sales tax and shipping and handling. Use: Levi's Weekend Denim Jacket. JC Penney catalog number A844-8105.

Woman's Pump Shoes. Plain pump (not open toed or open back style) with tapered approximately 1.5—2 inch heel. Heel color matches shoe color (e.g., not stacked/wooden type). Shoe has leather uppers. Rest is man-made materials. No extra ornamentation or extra thick heels. Do not price leather sole shoe. Use: Naturalizer, Easy Spirit (Macys) and Laura Scott (Sears).

Woman's Sweater. Short sleeve sweater, no buttons or collar, 100 percent cotton or cotton blend. Price regular size. Do not price in Woman's or Plus size. Use: Style & Company (Macys) and Sag Harbor (Sears)

Woman's Wallet. Clutch/checkbook style wallet, split-grain cowhide leather. Do not price eel skin, snake skin or other varieties. Use: Kenneth Cole Reaction (Macys) and Buxton (Sears).

Appendix 4—COLA Rental Survey Data Collection Elements

Survey Year: Year of survey.

Comparable ID Code: A unique 5 character code will be applied to each comparable. Position 1 is the letter corresponding to the area in which the comparable is located ( i.e., A, B, C, D). Position 2 is the letter corresponding to the location as identified in Attachment A in which the comparable is located. Position 3 is the letter corresponding to the class of housing (i.e., A, B, C, D, E, F). Positions 4 and 5 will contain the sequential numbers 01-99 that identifies the order in which the comparable was collected relative to the other comparable in the same rent class, location, and area.

Community Name: The name of the community. This may differ from the city name provided under “Address of Housing Sample.”

Address of Housing Sample: This data field will contain the street address of the physical location of the housing sample, including city/state/zip code, no post office boxes, and name of multi-unit complexes (where applicable) placed in comment field.

Name of Data Source: The name and title (such as owner, agent, landlord, or tenant) of person providing rental survey data and rental rates.

Complete Address of Data Source: The street address including city, State, zip code of the Data Source's home or place of business.

Phone Number: The phone number of the data source.

E-mail of Data Source: The e- mail of the data source.

Year Constructed: Year structure was initially built or year of last remodel which affected 50% or more of the structure.

Finished Living Space: Total square feet of finished living area, covering all floors and basement areas; i.e., living area rounded to the nearest foot.

Basement: Whether there is a basement (finished or unfinished), yes or no.

Bedrooms: The total number of rooms that currently are or could be used as bedrooms.

Bathrooms: Total number, where ½ bath contains toilet and sink, ¾ bath contains toilet, sink and shower, and full bath is toilet, sink, and shower and tub.

Balcony: An elevated structure, also may be referred to as “terrace,” and will be either covered, uncovered, or none. Can also be made of wood or cement and is normally distinguished from a deck because it does not have essentially a ground-level exit. The balcony can be on the rear, front, or side of the structure. A = Covered, B = Uncovered, C = None.

Deck: Also may be referred to as “porch,” wooden structure either covered, uncovered, or none, and may be elevated or ground level. An elevated deck is normally distinguished from a balcony because it has a ground-level exit. The deck can be on the rear, front, or side of the structure. A = Covered, B = Uncovered, C = None.

Patio: Cement, brick, or stone structure either covered, uncovered, or none. Also may be referred to as “porch” and is distinguished from a deck based on being ground level and being either cement, brick, or stone. The patio can be on the rear, front, or side of the structure. A = Covered, B = Uncovered, C = None.

Arctic Entrance: Structure added to house for controlled entrance from inclement weather. Y = Yes or N = No.

External Condition: Above average condition means the unit is new or like new condition (e.g., recently remodeled, refurbished or restored.) Average condition means the unit shows signs of age but is in good repair (e.g., the paint is not peeling, no broken windows, sagging fences, or missing gutters; the yard is maintained; there are no disabled vehicles, appliances, or trash around the property). Below average condition means the unit is habitable but needs repair(s) and the property/yard needs maintenance and/or trash removal. A = Above Average, B = Average, C = Below Average.

Neighborhood Condition: Desirable neighborhood generally has homes in excellent or good condition. Commercial services are separate (e.g., clustered in strip malls or business parks). There are many parks and/or open public spaces. Roads, parks, and common areas are well-maintained and clean. Other public services, including schools, are believed to be good; and crime rate is perceived to be low. An average neighborhood generally has homes in good condition with a balance of homes in excellent and poor condition. Commercial services are separate. Roads and parks are in good condition but may need cleaning or maintenance. Other public services are perceived to be acceptable but not exceptional. An undesirable neighborhood generally has homes in poor condition. Commercial units may be intermingled with residential units. Roads are often crowded and/or poorly maintained and have litter. There are few parks and existing ones are also poorly maintained. A = Desirable, B = Average, C = Undesirable.

Heating Fuel: Primary heating fuel such as natural gas, propane (bulk or metered), fuel oil, electricity, fire wood, other sources (solar, coal, wind) or none. A = Natural Gas, B = Propane, C = Fuel Oil, D = Electricity, E = Wood, F = None, G = Other.

Central Air Conditioning: A ducted system designed to cool all or essentially all of the living space of a house or apartment. Y = Yes or N = No.

Multi-Room Air Conditioning: Non-window unit designed to cool more than one room but not usually the entire house or apartment. Y = Yes and number of units or N = No.

Window Air Conditioning: If present, report the number of window-type air conditioning units. Y = Yes and number of units or N = No.

Exterior Construction: Predominant external building material such as block, brick, cement/stucco, metal or vinyl siding, stone (stacked, natural, etc.), wood (shingles or siding), or other. A = Block, B = Brick, C = Cement/Stucco, D = Metal/Vinyl Siding, E = Stone, F = Wood, G = Other.

Garage: Covered area attached to or near the house that can be secured for parking a car(s). If landlord charges extra fee for garage parking, will be coded as “none,” and monthly parking fee reported separately. A = Single, B = Double, C = Triple or More, D = None.

Heated Garage: Whether garage is typically heated during the winter. Y = Yes or N = No.

Carport: A covered area attached to or near the house that cannot be secured for parking a car(s). If landlord charges extra fee for carport parking, coded as “no,” and report monthly parking fee separately. Y = Yes or N = No.

Reserved Parking Spaces: Specific parking lot or garage spaces assigned to the housing unit. If landlord charges extra fee for reserved parking, coded as “no,” and report monthly parking fee separately. Y = Yes or N = No.

Security: Gated community is defined as having one entry into the housing area, and prominent walls (brick, block, fencing, wire, or other type barriers) that delineate the borders of the community. Access control is defined as having restricted pedestrian and vehicular access via keypad or barcode entry to the community. Guard is defined as security personnel who monitor entrance/exit of vehicular and pedestrian traffic in/out of community or apartment building. Alarm system is defined as personal home security system that may or may not be monitored by an outside company. More than one type of security items may be applicable for housing comparable. Y = Yes or N = No each for gated community, access control, guard(s), alarm system, or none.

Type of unit: Defined as follows (A, B, C, D, E, F, G, H):

A. Single Family Detached House: A detached house that has at least two ground-level (or essentially ground-level) doorway entrances that provide direct access between the living area and outdoors at or near ground level. A sliding glass door is considered a doorway entrance if it allows direct access to the outdoors at or near ground level, but doorways and other exits principally used as fire escapes are not doorway entrances. Ground-level or essentially ground-level units in an apartment structure are not single family units.

B. Duplex: A free standing building that can house two separate families within one building structure where each portion of the single family housing unit of the duplex has at least two ground-level (or essentially ground-level) doorway entrances that provide direct access between the living area and outdoors at or near ground level. A sliding glass door is considered a doorway entrance if it allows direct access to the outdoors at or near ground level, but doorways and other exits principally used as fire escapes are not doorway entrances. Ground-level or essentially ground-level units in an apartment structure are not single family units.

C. Triplex, Quadplex: A free standing building that can house four separate families within one building structure where each portion of the single family housing unit of the triplex has at least two ground-level (or essentially ground-level) doorway entrances that provide direct access between the living area and outdoors at or near ground level. A sliding glass door is considered a doorway entrance if it allows direct access to the outdoors at or near ground level, but doorways and other exits principally used as fire escapes are not doorway entrances. Ground-level or essentially ground-level units in an apartment structure are not single family units.

D. Town/Row House: A building that can house five or more separate families within one building structure where each portion of the single family housing unit of the town/row house has at least two ground-level (or essentially ground-level) doorway entrances that provide direct access between the living area and outdoors at or near ground level. A sliding glass door is considered a doorway entrance if it allows direct access to the outdoors at or near ground level, but doorways and other exits principally used as fire escapes are not doorway entrances. Ground-level or essentially ground-level units in an apartment structure are not single family units.

E. Apartment In-Home: A unit in a multi-dwelling structure that does not provide two non-emergency ground-level (or essentially ground-level) entrances with direct access between the living area and the outdoors at or near ground level. Sliding glass doors onto balconies are not doorway entrances nor are doors that are principally used as fire escapes. Although apartment complexes may not have single family units within them, a single family unit can have one or more apartments with it. Units in an operating motel are not apartment units, even if they do contain kitchen facilities.

F. Apartment—Garden or Walk-up: An apartment building of 3 stories or less.

G. Apartment—High Rise: An apartment building of 4 stories or more.

H. Other: Other types of dwellings.

Lot Size: Size of lot. (Detached houses only).

End Unit: End unit. (Town and row houses only.) Y = Yes or N = No.

Number of floors: Number of floors in apartment unit. (Walk-up and high rise apartments only.)

Furnishings Provided: Whether the landlord provides most or all interior furnishings in the comparable. Y = Yes or N = No.

Appliances Provided: Whether the landlord provides a refrigerator, range, oven, microwave, dish washer, clothes washer, clothes dryer, or free-standing freezer. Y = Yes or N = No for each type of appliance.

Services Paid by Landlord: Whether the landlord pays for water, sewer/septic, garbage, lawn care, cable television, satellite dish (digital or analog), electricity, heating energy, firewood, or snow removal. Y = Yes or N = No for each item.

Sewer: A = Public, B = Septic or Leach Field, C = None.

Water Source: A = Public, B = Well, C = Cistern, D = None.

Pets Allowed: Whether the housing allows pets. Yes or No. If landlord charges an extra monthly fee, report fees as part of rent. Do not report deposits.

Exceptional view: Whether the unit has a view of a park, ocean, mountain, valley, golf course, etc. that is unusually beautiful for the area and may increase the rental value of the property. Note: Properties with direct access to such an amenity are not to be surveyed as comparable housing units. Y = Yes or N = No.

Amenities: Whether any of the following amenities are available: fireplace, paved roads, street lights, side walks, and complementary recreation facilities. Y = Yes or N = No.

Recreational Facilities: Whether there is a pool, tennis court(s), club house, exercise room, or other facilities available to all of the residents of the community, complex, or building for no additional membership fees. Y = Yes or N = No for each item.

Vacant: If unit is vacant, report how long the unit has been available on the rental market. Y = Yes or N = No.

Monthly Rent: The monthly rental or lease amount to the nearest U.S. dollar. Do not include deposits. Include additional pet fees, if any.

Additional Fees: Additional periodic or scheduled fees or charges that the tenant pays; e.g., parking fees, condo or Home Owner Association fees, or pet fees. If yes, report the amount of the fee. Annual fees are prorated and listed as a monthly rate. Deposits or discretionary fees (i.e., first or last months rent), are not obtained.

Source of Rental Listing: How the rental unit was identified. A = Local Newspaper, B = Internet, C = Agent/Broker, D = Drive By/Sign Posted, E = Other.

Date of Rental Listing: Date associated with when the rate of the Monthly Rent was set or provided.

Latitude and Longitude of the Unit: Housing unit latitude and longitude recorded as decimal degrees.

Comment(s): Any comment or note of significance, such as additional fees, relevant conversation with owner/agent regarding comparable, objective comments regarding neighborhood or location of comparable, and/or cross-cultural observation.

Appendix 5—Utility Usage and Calculations 2004 COLA Survey Pacific—Energy Requirements and Prices

Table A5-1.—Oahu
[All electric home]
Month | KWH | Cost
Jan | 1,940 | $280.44
Feb | 1,805 | 261.90
Mar | 2,318 | 337.29
Apr | 2,367 | 347.34
May | 2,673 | 393.00
Jun | 2,756 | 399.92
Jul | 3,024 | 425.91
Aug | 2,947 | 412.59
Sep | 2,772 | 385.46
Oct | 2,668 | 368.88
Nov | 2,237 | 310.58
Dec | 1,916 | 269.45
Avg. Monthly Cost |  | 349.40

A5-2.—The Big Island
[All electric home]
Month | KWH | Cost
Jan | 1,912 | $402.52
Feb | 1,618 | 343.36
Mar | 2,190 | 461.22
Apr | 2,176 | 472.04
May | 2,536 | 552.54
Jun | 2,546 | 535.89
Jul | 2,778 | 561.89
Aug | 2,761 | 561.52
Sep | 2,606 | 749.31
Oct | 2,527 | 538.71
Nov | 2,003 | 424.07
Dec | 1,804 | 381.56
Avg. Monthly Cost |  | 498.72

Table A5-3.—Kauai
[All electric home]
Month | KWH | Cost
Jan | 1,854 | $444.98
Feb | 1,587 | 371.08
Mar | 2,096 | 511.33
Apr | 2,080 | 532.83
May | 2,396 | 571.34
Jun | 2,389 | 551.54
Jul | 2,598 | 604.65
Aug | 2,579 | 581.09
Sep | 2,439 | 575.61
Oct | 2,374 | 541.37
Nov | 1,914 | 438.60
Dec | 1,756 | 411.08
Avg. Monthly Cost |  | 511.29

Table A5-4.—Maui
[All electric home]
Month | KWH | Cost
Jan | 2,038 | $364.82
Feb | 1,897 | 347.49
Mar | 2,489 | 458.42
Apr | 2,557 | 466.31
May | 2,922 | 560.10
Jun | 3,053 | 533.00
Jul | 3,361 | 555.76
Aug | 3,273 | 549.33
Sep | 3,076 | 537.49
Oct | 2,946 | 531.47
Nov | 2,435 | 431.25
Dec | 2,025 | 355.01
Avg. Monthly Cost |  | 474.20

Table A5-5.—Guam
[All electric home]
Month | KWH | Cost
Jan | 3,010 | $419.59
Feb | 2,790 | 387.53
Mar | 2,953 | 411.28
Apr | 3,067 | 427.89
May | 3,261 | 412.13
Jun | 3,237 | 408.95
Jul | 3,076 | 387.67
Aug | 3,025 | 380.93
Sep | 3,814 | 485.23
Oct | 3,078 | 429.49
Nov | 2,886 | 401.52
Dec | 2,928 | 407.64
Avg. Monthly Cost |  | 413.32

Table A5-6.—Washington, DC, Area
[All electric home]
Month | KWH | Cost
Jan | 3,326 | $237.27
Feb | 2,688 | 193.50
Mar | 1,812 | 133.41
Apr | 966 | 73.36
May | 1,170 | 86.77
Jun | 1,377 | 132.74
Jul | 1,648 | 160.71
Aug | 1,566 | 153.6
Sep | 1,246 | 121.01
Oct | 975 | 91.76
Nov | 1,797 | 130.71
Dec | 2,797 | 198.38
Avg. Monthly Cost |  | 142.77
Relative Usage |  | 33.20%
Weighted Average Cost |  | $47.40

Table A5-6.—Washington, DC, Area
[Home with gas heat]
Therms | Cost | KWH ¹ | Cost | Total cost
126 | $159.79 | 362 | $29.69 | $189.48
101 | 135.40 | 320 | 26.83 | 162.23
68 | 84.23 | 322 | 26.97 | 111.20
34 | 50.91 | 316 | 25.90 | 76.81
34 | 48.43 | 544 | 42.52 | 490.95
32 | 49.18 | 784 | 73.10 | 122.28
34 | 49.18 | 1,022 | 97.44 | 146.62
33 | 48.03 | 957 | 91.63 | 139.66
32 | 44.63 | 653 | 61.12 | 105.74
35 | 48.12 | 315 | 29.47 | 77.59
67 | 82.49 | 311 | 25.93 | 108.42
106 | 128.53 | 344 | 28.15 | 156.68
Avg. Monthly Cost | 77.41 |  | 46.56 | 123.97
Relative Usage |  |  |  | 60.74%
Weighted Average cost |  |  |  | 75.30
¹ KWH required for lighting, applicances, and furnace. Model used gas for stove and oven with gas heat.

Table A5-6.—Washington, DC, Area (continued)
[Home with oil heat]
Month | Gallons | Cost | KWH ¹ | Cost | Total cost
Jan | 72 | $110.74 | 1,007 | $78.18 | $188.92
Feb | 56 | 86.13 | 891 | 70.23 | 156.35
Mar | 27 | 41.53 | 938 | 73.45 | 114.98
Apr | 2 | 3.08 | 909 | 69.57 | 72.65
May | 0 | 0.00 | 1,166 | 86.51 | 86.51
Jun | 0 | 0.00 | 1,369 | 131.94 | 131.94
Jul | 0 | 0.00 | 1,636 | 159.51 | 159.51
Aug | 0 | 0.00 | 1,555 | 152.56 | 152.56
Sep | 0 | 0.00 | 1,241 | 120.51 | 120.51
Oct | 1 | 1.54 | 941 | 88.62 | 90.16
Nov | 28 | 43.06 | 911 | 70.75 | 113.82
Dec | 58 | 89.20 | 952 | 73.53 | 162.73
Average Monthly Cost |  | 31.27 |  | 97.95 | 129.22
Relative Usage |  |  |  |  | 6.06%
Weighted Average Cost |  |  |  |  | $7.83
Total Energy Utility Cost (Sum the weighted average cost of Electric + Gas + Oil Heat) |  |  |  |  | $130.53
¹ KWH required for lighting, appliances, and furnace. Model used gas for stove and oven with gas heat.

Appendix 6—Hedonic Rental Data Equations and Results

data temp; set OPM.dc_pac_areas_merged;

*following corrects for 5 out of survey area units in Hilo;

if compnumber not in (‘DAB62',‘DAC04', ‘DAA03',‘DAB61',‘DAC35');

*following drops Georgetown observations;

if compzip ne ‘20007';

*following drops observations in Loudoun, Howard, and Anne Arundel Counties;

if compnumber not in (‘GSB07', ‘GSE07',‘GOC01',‘GOA01',‘GOD03', ‘GOE04',‘GOF04',‘GOD01');

*following drops unit in Kauai with 10 baths;

if fullbaths lt 10;

if compzip ne ‘20007';

*following corrects for three units coded as “Other”;

if compnumber in (‘AAF20',‘GDF01',‘GDE17') then unittype = ‘E';

*following corrects for excise tax not included in Kona apt rents;

if compnumber in (‘CEE07’,‘CED08’, ‘CAE01’,‘CAF01’,‘CEB19’,‘CEC05’,‘CEB16’, ‘CEA01’,‘CEB13’,‘CEF04’,‘CDB06’,‘CEF09’, ‘CEF19’,‘CEA03’,‘CEA06’,‘CEE19’,‘CEB33’, ‘CEC10’,‘CEE20’,‘CEB24’,‘CEB37’,‘CEB31’, ‘CEC11’,‘CEE09’,‘CEE21’,‘CEF02’,‘CEB09’, ‘CEB10’,‘CEE05’,‘CEE11’,‘CEB08’,‘CED01’, ‘CEE05’,‘CEF12’,‘CED03’,‘CEB07’,‘CEC01’, ‘CEB27’,‘CEC03’) then rent = rent*1.0416;

*following drops 17 records with zero or very low Census median incomes;

if medianincome > 2499;

survey_area = ‘XX';

location = substr(compnumber,1,1);

if location = ‘A' then survey_area = ‘GU';

if location = ‘B' then survey_area = ‘KA';

if location = ‘C' then survey_area = ‘KO';

if location = ‘D' then survey_area = ‘HI';

if location = ‘E' then survey_area = ‘MA';

if location = ‘F' then survey_area = ‘HO';

if location = ‘G' then survey_area = ‘DC';

*Q1 yrbuilt;

age = 2004 − yrbuilt;

agesq = age*age;

sqsqspace = sqfootage*sqfootage;

baths = fullbaths+halfbaths*.5 + threeqtrbaths*.75;

Extrnl_Cond = 0;

if extrcond = ‘A' then Extrnl_Cond = 1; *(Good);

Neighbor_Cond = 0;

if neighcond = ‘A' then Neighbor_Cond = 1; *(Desirable);

Air_Condition = 0;

if (centrlcool = ‘Y' or multicool = ‘Y' or (windowunits > bedrooms)) then Air_Condition = 1;

hasgarage = 0;

if garage in (‘A' ‘B' ‘C') then hasgarage = 1; *(Yes);

exceptional_view = 0;

if excview = ‘Y' then exceptional_view = 1;

hassecurity = 0;

if gated = ‘Y' or accessctl = ‘Y' or guards = ‘Y' or alarms = ‘Y' then hassecurity = 1;

Dup_Triplex = 0;

if unittype in (‘B' ‘C') then Dup_Triplex = 1; *(Duplex or Triplex);

Non_Highrise = 0;

if unittype in (‘E' ‘F' ‘H') then Non_Highrise = 1; *(Walkup, In-home, or other apartmnt);

Highrise = 0;

if unittype = ‘G' then Highrise = 1; *(high rise apartment);

Detached_Town = 0;

*if unittype in (‘A' 'D') then Detached_Town = 1; *(Detached, Townhouse, Row House);

*omitting the above makes it the base condition;

SqftXDup_Triplex = 0;

if unittype in (‘B' ‘C') then SqftXDup_Triplex = sqfootage;

SqftXNon_Highrise= 0;

if unittype in (‘E' ‘F' ‘H') then SqftXNon_Highrise = sqfootage;

SqftXHighrise = 0;

if unittype = ‘G' then SqftXHighrise = sqfootage;

SqftXDetached_Town = 0;

if unittype in (‘A' 'D') then SqftXDetached_Town = sqfootage;

isfurnished = 0;

if furniture = ‘Y' then isfurnished = 1;

hasclothesdryer = 0;

if cldryer = ‘Y' then hasclothesdryer = 1;

hasrecreation = 0;

if pool = ‘Y' or tenniscourt = ‘Y' or clubhouse = ‘Y' or exerciseroom = ‘Y' or otherrecfac = ‘Y' then hasrecreation= 1;

provided_electric = 0;

if elec = ‘Y' then provided_electric = 1;

sqfootagesq = sqfootage * sqfootage;

pctallbasq = pctallba_*pctallba_;

Honolulu = 0;

if survey_area = ‘HO' then Honolulu = 1;

Hilo = 0;

if survey_area = ‘HI' then Hilo = 1;

Kona = 0;

if survey_area = ‘KO' then Kona = 1;

Kauai = 0;

if survey_area = ‘KA' then Kauai = 1;

Maui = 0;

if survey_area = ‘MA' then Maui = 1;

Guam = 0;

if survey_area = ‘GU' then Guam = 1;

Wash_DC = 0;

*** if survey_area = ‘WA' then Wash_DC = 1—Omitting this makes DC the base area;

lrent = log(rent);

PROC REG DATA=temp;

MODEL lrent = SqftXDup_Triplex SqftXNon_Highrise SqftXHighrise

SqftXDetached_Town age agesq baths bedrooms sqfootagesq

Dup_Triplex Non_Highrise Highrise Extrnl_Cond

Neighbor_Cond Air_Condition hasgarage exceptional_view

hassecurity isfurnished hasclothesdryer hasrecreation

provided_electric PctallBA_ PctallBAsq PctSchoolAge

Honolulu Hilo Kona Kauai Maui Guam;

TITLE ‘2004 Pacific Rental Data—Federal Register Model';

RUN;

2004 Pacific Rental Data—Federal Register Model

The REG Procedure Model: MODEL1 Dependent Variable: lrent

Number of Observations Read | 2715
Number of Observations Used | 2715

Analysis of Variance
Source | DF | Sum of squares | Mean square | F Value | Pr > F
Model | 31 | 384.82477 | 12.41370 | 351.39 | <.0001
Error | 2683 | 94.78373 | 0.03533
Corrected Total | 2714 | 479.60849

Root MSE | 0.18796 | R-Square | 0.8024
Dependent Mean | 7.18877 | Adj R-Sq | 0.8001
Coeff Var | 2.61458

Parameter Estimates
Variable | Label | DF | Parameter estimate | Standard error | t Value | Pr > |t|
Intercept | Intercept | 1 | 6.47058 | 0.05055 | 128.01 | <.0001
SqftXDup_Triplex |  | 1 | 0.00045925 | 0.00005861 | 7.84 | <.0001
SqftXNon_Highrise |  | 1 | 0.00059731 | 0.00004797 | 12.45 | <.0001
SqftXHighrise |  | 1 | 0.00057781 | 0.00005148 | 11.22 | <.0001
SqftXDetached_Town |  | 1 | 0.00039558 | 0.00005545 | 7.13 | <.0001
age |  | 1 | −0.00237 | 0.00053614 | −4.43 | <.0001
agesq |  | 1 | 0.00003727 | 0.00000625 | 5.96 | <.0001
baths |  | 1 | 0.07868 | 0.00818 | 9.62 | <.0001
BEDROOMS |  | 1 | 0.09824 | 0.00754 | 13.03 | <.0001
sqfootagesq |  | 1 | −8.5735E-8 | 1.620877E-8 | −5.29 | <.0001
Dup_Triplex |  | 1 | −0.13417 | 0.04480 | −2.99 | 0.0028
Non_Highrise |  | 1 | −0.35973 | 0.03667 | −9.81 | <.0001
Highrise |  | 1 | −0.34958 | 0.03918 | −8.92 | <.0001
Extrnl_Cond |  | 1 | 0.09185 | 0.01489 | 6.17 | <.0001
Neighbor_Cond |  | 1 | 0.17929 | 0.01667 | 10.75 | <.0001
Air_Condition |  | 1 | 0.09110 | 0.01143 | 7.97 | <.0001
hasgarage |  | 1 | 0.06483 | 0.01090 | 5.95 | <.0001
exceptional_view |  | 1 | 0.07893 | 0.01893 | 4.17 | <.0001
hassecurity |  | 1 | 0.04698 | 0.01192 | 3.94 | <.0001
isfurnished |  | 1 | 0.08709 | 0.01680 | 5.18 | <.0001
hasclothesdryer |  | 1 | 0.05982 | 0.00820 | 7.30 | <.0001
hasrecreation |  | 1 | 0.05343 | 0.01048 | 5.10 | <.0001
provided_electric |  | 1 | 0.08243 | 0.01190 | 6.93 | <.0001
PCTAllBA_ | PCTAllBA+ | 1 | −0.08353 | 0.09926 | −0.84 | 0.4001
pctallbasq |  | 1 | 0.67328 | 0.10950 | 6.15 | <.0001
PctSchoolAge |  | 1 | −0.74929 | 0.09096 | −8.24 | <.0001
Honolulu |  | 1 | 0.27237 | 0.01368 | 19.91 | <.0001
Hilo |  | 1 | −0.21806 | 0.01934 | −11.28 | <.0001
Kona |  | 1 | 0.05520 | 0.02031 | 2.72 | 0.0066
Kauai |  | 1 | 0.15214 | 0.02018 | 7.54 | <.0001
Maui |  | 1 | 0.23496 | 0.01781 | 13.19 | <.0001
Guam |  | 1 | −0.11832 | 0.01522 | −7.78 | <.0001

Appendix 7—Final Living-Cost Results for the Pacific Cola Areas
Major expenditure group (MEG) | Primary expenditure group (PEG) | MEG weight (percent) | PEG weight (percent) | PEG index | MEG index
HONOLULU COUNTY, HI
1. Food |  | 12.47 |  |  | 122.24
| Cereals and bakery products | 0.93 | 7.45 | 149.58 |
| Meats, poultry, fish, and eggs | 1.51 | 12.13 | 112.97 |
| Dairy products | 0.69 | 5.54 | 127.68 |
| Fruits and vegetables | 0.76 | 6.12 | 125.39 |
| Processed foods | 1.54 | 12.37 | 159.28 |
| Other food at home | 0.38 | 3.07 | 131.16 |
| Nonalcoholic beverages | 0.46 | 3.71 | 138.17 |
| Food away from home | 5.42 | 43.48 | 108.75 |
| Alcoholic beverages | 0.76 | 6.13 | 106.06 |
| PEG Total |  | 100.00 |  |
2. Shelter and Utilities |  | 35.37 |  |  | 143.77
| Shelter | 31.48 | 89.01 | 132.59 |
| Energy utilities | 3.17 | 8.97 | 267.67 |
| Water and other public services | 0.72 | 2.02 | 86.36 |
| PEG Total |  | 100.00 |  |
3. Household Furnishings and Supplies |  | 6.05 |  |  | 104.33
| Household operations | 1.48 | 24.52 | 92.92 |
| Housekeeping supplies | 1.31 | 21.61 | 109.88 |
| Textiles and area rugs | 0.33 | 5.52 | 102.31 |
| Furniture | 1.07 | 17.76 | 99.49 |
| Major appliances | 0.35 | 5.86 | 115.80 |
| Small appliances, misc. housewares | 0.25 | 4.06 | 111.88 |
| Misc. household equipment | 1.25 | 20.66 | 112.04 |
| PEG Total |  | 100.00 |  |
4. Apparel and Services |  | 3.75 |  |  | 122.55
| Men and boys | 0.84 | 22.51 | 112.36 |
| Women and girls | 1.44 | 38.33 | 122.50 |
| Children under 2 | 0.19 | 5.18 | 119.50 |
| Footwear | 0.72 | 19.08 | 115.42 |
| Other apparel products and services | 0.56 | 14.90 | 148.23 |
| PEG Total |  | 100.00 |  |
5. Transportation |  | 16.36 |  |  | 118.67
| Motor vehicle costs | 8.97 | 54.85 | 108.88 |
| Gasoline and motor oil | 2.75 | 16.79 | 113.73 |
| Maintenance and repairs | 1.55 | 9.50 | 117.73 |
| Vehicle insurance | 1.79 | 10.92 | 103.42 |
| Public transportation | 1.30 | 7.95 | 218.80 |
| PEG Total |  | 100.00 |  |
6. Medical |  | 4.65 |  |  | 89.90
| Health insurance | 2.38 | 51.11 | 78.47 |
| Medical services | 1.40 | 30.12 | 99.61 |
| Drugs and medical supplies | 0.87 | 18.77 | 105.46 |
| PEG Total |  | 100.00 |  |
7. Recreation |  | 5.65 |  |  | 106.91
| Fees and admissions | 1.20 | 21.27 | 99.68 |
| Television, radios, sound equip. | 0.72 | 12.69 | 105.22 |
| Pets, toys, & playground equipment | 0.86 | 15.31 | 118.33 |
| Other entertainment supplies, etc | 1.28 | 22.69 | 104.64
| Personal care products | 0.72 | 12.72 | 113.55 |
| Personal care services | 0.54 | 9.57 | 104.96 |
| Reading | 0.32 | 5.75 | 104.55 |
| PEG Total |  | 100.00 |  |
8. Education and Communication |  | 4.01 |  |  | 101.20
| Education | 0.16 | 4.02 | 156.34 |
| Communications | 3.42 | 85.35 | 98.89 |
| Computers and computer services | 0.43 | 10.64 | 98.89 |
| PEG Total |  | 100.00 |  |
9. Miscellaneous |  | 11.69 |  |  | 103.35
| Tobacco products, etc | 0.46 | 3.93 | 121.60 |
| Miscellaneous | 1.69 | 14.45 | 117.30 |
| Personal insurance and pensions | 9.54 | 81.62 | 100.00 |
| PEG Total |  | 100.00 |  |
Overall Price Index | MEG Total | 100.00 |  |  | 122.78
Plus Adjustment Factor |  |  |  |  | 5.00
Index Plus Adjustment Factor |  |  |  |  | 127.78
HILO AREA, HI
1. Food |  | 12.47 |  |  | 118.81
| Cereals and bakery products | 0.93 | 7.45 | 151.94
| Meats, poultry, fish, and eggs | 1.51 | 12.13 | 116.17 |
| Dairy products | 0.69 | 5.54 | 139.48 |
| Fruits and vegetables | 0.76 | 6.12 | 122.88 |
| Processed foods | 1.54 | 12.37 | 153.22 |
| Other food at home | 0.38 | 3.07 | 126.61 |
| Nonalcoholic beverages | 0.46 | 3.71 | 139.16 |
| Food away from home | 5.42 | 43.48 | 101.15 |
| Alcoholic beverages | 0.76 | 6.13 | 100.53 |
| PEG Total |  | 100.00 |  |
2. Shelter and Utilities |  | 35.37 |  |  | 108.45
| Shelter | 31.48 | 89.01 | 82.15 |
| Energy utilities | 3.17 | 8.97 | 382.07 |
| Water and other public services | 0.72 | 2.02 | 52.84 |
| PEG Total |  | 100.00 |  |
3. Household Furnishings and Supplies |  | 6.05 |  |  | 105.51
| Household operations | 1.48 | 24.52 | 82.82 |
| Housekeeping supplies | 1.31 | 21.61 | 122.31 |
| Textiles and area rugs | 0.33 | 5.52 | 111.00 |
| Furniture | 1.07 | 17.76 | 99.49 |
| Major appliances | 0.35 | 5.86 | 126.70 |
| Small appliances, misc. housewares | 0.25 | 4.06 | 112.22 |
| Misc. household equipment | 1.25 | 20.66 | 111.26 |
| PEG Total |  | 100.00 |  |
4. Apparel and Services |  | 3.75 |  |  | 114.01
| Men and boys | 0.84 | 22.51 | 113.80 |
| Women and girls | 1.44 | 38.33 | 102.27 |
| Children under 2 | 0.19 | 5.18 | 119.15 |
| Footwear | 0.72 | 19.08 | 109.63 |
| Other apparel products and services | 0.56 | 14.90 | 148.37 |
| PEG Total |  | 100.00 |  |
5. Transportation |  | 16.36 |  |  | 117.70
| Motor vehicle costs | 8.97 | 54.85 | 100.16 |
| Gasoline and motor oil | 2.75 | 16.79 | 118.55 |
| Maintenance and repairs | 1.55 | 9.50 | 98.96 |
| Vehicle insurance | 1.79 | 10.92 | 103.83 |
| Public transportation | 1.30 | 7.95 | 278.48 |
| PEG Total |  | 100.00 |  |
6. Medical |  | 4.65 |  |  | 86.45
| Health insurance | 2.38 | 51.11 | 77.33 |
| Medical services | 1.40 | 30.12 | 92.57 |
| Drugs and medical supplies | 0.87 | 18.77 | 101.45 |
| PEG Total |  | 100.00 |  |
7. Recreation |  | 5.65 |  |  | 101.09
| Fees and admissions | 1.20 | 21.27 | 83.76 |
| Television, radios, sound equipment | 0.72 | 12.69 | 110.58 |
| Pets, toys, & playground equipment | 0.86 | 15.31 | 117.57 |
| Other entertainment supplies, etc | 1.28 | 22.69 | 104.90 |
| Personal care products | 0.72 | 12.72 | 113.21 |
| Personal care services | 0.54 | 9.57 | 78.16 |
| Reading | 0.32 | 5.75 | 96.69 |
| PEG Total |  | 100.00 |  |
8. Education and Communication |  | 4.01 |  |  | 100.20
| Education | 0.16 | 4.02 | 51.82 |
| Communications | 3.42 | 85.35 | 102.64 |
| Computers and computer services | 0.43 | 10.64 | 98.89 |
| PEG Total |  | 100.00 |  |
9. Miscellaneous |  | 11.69 |  |  | 102.34
| Tobacco products, etc | 0.46 | 3.93 | 127.28 |
| Miscellaneous | 1.69 | 14.45 | 108.81 |
| Personal insurance and pensions | 9.54 | 81.62 | 100.00 |
| PEG Total |  | 100.00 |  |
KAILUA KONA/WAIMEA AREA, HI
1. Food |  | 12.47 |  |  | 124.64
| Cereals and bakery products | 0.93 | 7.45 | 161.45
| Meats, poultry, fish, and eggs | 1.51 | 12.13 | 107.87 |
| Dairy products | 0.69 | 5.54 | 140.79 |
| Fruits and vegetables | 0.76 | 6.12 | 120.03 |
| Processed foods | 1.54 | 12.37 | 159.15 |
| Other food at home | 0.38 | 3.07 | 135.27 |
| Nonalcoholic beverages | 0.46 | 3.71 | 133.47 |
| Food away from home | 5.42 | 43.48 | 112.69 |
| Alcoholic beverages | 0.76 | 6.13 | 107.62 |
| PEG Total |  | 100.00 |  |
2. Shelter and Utilities |  | 35.37 |  |  | 130.98
| Shelter | 31.48 | 89.01 | 107.46 |
| Energy utilities | 3.17 | 8.97 | 382.07 |
| Water and other public services | 0.72 | 2.02 | 52.84 |
| PEG Total |  | 100.00 |  |
3. Household Furnishings and Supplies |  | 6.05 |  |  | 102.21
| Household operations | 1.48 | 24.52 | 86.47 |
| Housekeeping supplies | 1.31 | 21.61 | 117.27 |
| Textiles and area rugs | 0.33 | 5.52 | 111.71 |
| Furniture | 1.07 | 17.76 | 99.49 |
| Major appliances | 0.35 | 5.86 | 120.57 |
| Small appliances, misc. housewares | 0.25 | 4.06 | 108.56 |
| Misc. household equipment | 1.25 | 20.66 | 98.46 |
| PEG Total |  | 100.00 |  |
4. Apparel and Services |  | 3.75 |  |  | 125.99
| Men and boys | 0.84 | 22.51 | 122.02 |
| Women and girls | 1.44 | 38.33 | 102.07 |
| Children under 2 | 0.19 | 5.18 | 110.07 |
| Footwear | 0.72 | 19.08 | 108.42 |
| Other apparel products and services | 0.56 | 14.90 | 221.51 |
| PEG Total |  | 100.00 |  |
5. Transportation |  | 16.36 |  |  | 118.67
| Motor vehicle costs | 8.97 | 54.85 | 101.61 |
| Gasoline and motor oil | 2.75 | 16.79 | 128.62 |
| Maintenance and repairs | 1.55 | 9.50 | 108.29 |
| Vehicle insurance | 1.79 | 10.92 | 103.83 |
| Public transportation | 1.30 | 7.95 | 248.22 |
| PEG Total |  | 100.00 |  |
6. Medical |  | 4.65 |  |  | 94.43
| Health insurance | 2.38 | 51.11 | 77.33 |
| Medical services | 1.40 | 30.12 | 120.50 |
| Drugs and medical supplies | 0.87 | 18.77 | 99.18 |
| PEG Total |  | 100.00 |  |
7. Recreation |  | 5.65 |  |  | 102.99
| Fees and admissions | 1.20 | 21.27 | 98.36 |
| Television, radios, sound equipment | 0.72 | 12.69 | 103.98 |
| Pets, toys, & playground equipment | 0.86 | 15.31 | 131.78 |
| Other entertainment supplies, etc | 1.28 | 22.69 | 97.49 |
| Personal care products | 0.72 | 12.72 | 110.88 |
| Personal care services | 0.54 | 9.57 | 73.11 |
| Reading | 0.32 | 5.75 | 95.25 |
| PEG Total |  | 100.00 |  |
8. Education and Communication |  | 4.01 |  | 102.25
| Education | 0.16 | 4.02 | 106.65 |
| Communications | 3.42 | 85.35 | 102.46 |
| Computers and computer services | 0.43 | 10.64 | 98.89 |
| PEG Total |  | 100.00 |  |
9. Miscellaneous |  | 11.69 |  |  | 104.57
| Tobacco products, etc | 0.46 | 3.93 | 120.60 |
| Miscellaneous | 1.69 | 14.45 | 126.05 |
| Personal insurance and pensions | 9.54 | 81.62 | 100.00 |
| PEG Total |  | 100.00 |  |

Major expenditure group (MEG) | Primary expenditure group (PEG) | Hilo area indexes (percent) | Kona/Waimea area indexes (percent) | Hawaii county weighted index
HAWAII COUNTY, HI
Employment Weights |  | 66.7 | 33.3 |
1. Food |  | 118.81 | 124.64 | 120.75
| Cereals and bakery products | 151.94 | 161.45 | 155.11
| Meats, poultry, fish, and eggs | 116.17 | 107.87 | 113.41
| Dairy products | 139.48 | 140.79 | 139.91
| Fruits and vegetables | 122.88 | 120.03 | 121.93
| Processed foods | 153.22 | 159.15 | 155.19
| Other food at home | 126.61 | 135.27 | 129.50
| Nonalcoholic beverages | 139.16 | 133.47 | 137.26
| Food away from home | 101.15 | 112.69 | 104.99
| Alcholoic beverages | 100.53 | 107.62 | 102.89
2. Shelter and Utilities |  | 108.45 | 130.98 | 115.95
| Shelter | 82.15 | 107.46 | 90.58
| Energy utilities | 382.07 | 382.07 | 382.07
| Water and other public services | 52.84 | 52.84 | 52.84
3. Household Furnishings and Supplies |  | 105.51 | 102.21 | 104.41
| Household operations | 82.82 | 86.47 | 84.04
| Housekeeping supplies | 122.31 | 117.27 | 120.63
| Textiles and area rugs | 111.00 | 111.71 | 111.24
| Furniture | 99.49 | 99.49 | 99.49
| Major appliances | 126.70 | 120.57 | 124.66
| Small appliances, misc. hsware | 112.22 | 108.56 | 111.00
| Misc. household equipment | 111.26 | 98.46 | 107.00
4. Apparel and Services |  | 114.01 | 125.99 | 118.00
| Men and boys | 113.80 | 122.02 | 116.53
| Women and girls | 102.27 | 102.07 | 102.20
| Children under 2 | 119.15 | 110.07 | 116.12
| Footwear | 109.63 | 108.42 | 109.23
| Other apparel products & svcs. | 148.37 | 221.51 | 172.72
5. Transportation |  | 117.70 | 118.67 | 118.02
| Motor vehicle costs | 100.16 | 101.61 | 100.64
| Gasoline and motor oil | 118.55 | 128.62 | 121.90
| Maintenance and repairs | 98.96 | 108.29 | 102.07
| Vehicle insurance | 103.83 | 103.83 | 103.83
| Public transportation | 278.48 | 248.22 | 268.41
6. Medical |  | 86.45 | 94.43 | 89.11
| Health insurance | 77.33 | 77.33 | 77.33
| Medical services | 92.57 | 120.50 | 101.87
| Drugs and medical supplies | 101.45 | 99.18 | 100.69
7. Recreation |  | 101.09 | 102.99 | 101.72
| Fees and admissions | 83.76 | 98.36 | 88.62
| Television, radios, sound equip. | 110.58 | 103.98 | 108.38
| Pets, toys, & playground equip | 117.57 | 131.78 | 122.30
| Other entertainment supplies | 104.90 | 97.49 | 102.43
| Personal care products | 113.21 | 110.88 | 112.43
| Personal care services | 78.16 | 73.11 | 76.48
| Reading | 96.69 | 95.25 | 96.21
8. Education and Communication |  | 100.20 | 102.25 | 100.88
| Education | 51.82 | 106.65 | 70.08
| Communications | 102.64 | 102.46 | 102.58
| Computers & computer services | 98.89 | 98.89 | 98.89
9. Miscellaneous |  | 102.34 | 104.57 | 103.09
| Tobaccoo products, etc | 127.28 | 120.60 | 125.05
| Miscellaneous | 108.81 | 126.05 | 114.55
| Personal insurance and premiums | 100.00 | 100.00 | 100.00
Overall Price Index |  |  |  | 112.11
Plus Adjustment Factor |  |  |  | 7.00
Index Plus Adjustment Factor |  |  |  | 119.11

Major expenditure group (MEG) | Primary expenditure group (PEG) | MEG weight (percent) | PEG weight (percent) | PEG index | MEG index
KAUAI COUNTY, HI
1. Food |  | 12.47 |  |  | 127.66
| Cereals and bakery products | 0.93 | 7.45 | 162.92 |
| Meats, poultry, fish, and eggs | 1.51 | 12.13 | 116.75 |
| Dairy products | 0.69 | 5.54 | 163.44 |
| Fruits and vegetables | 0.76 | 6.12 | 139.47 |
| Processed foods | 1.54 | 12.37 | 155.96 |
| Other food at home | 0.38 | 3.07 | 130.62 |
| Nonalcoholic beverages | 0.46 | 3.71 | 146.04 |
| Food away from home | 5.42 | 43.48 | 110.18 |
| Alcoholic beverages | 0.76 | 6.13 | 116.57 |
| PEG Total |  | 100.00
2. Shelter and Utilities |  | 35.37 |  |  | 141.32
| Shelter | 31.48 | 89.0 | 1118.21 |
| Energy utilities | 3.17 | 8.97 | 391.70 |
| Water and other public services | 0.72 | 2.02 | 48.30 |
| PEG Total |  | 100.00
3. Household Furnishings and Supplies |  | 6.05 |  |  | 104.93
| Household operations | 1.48 | 24.52 | 83.39 |
| Housekeeping supplies | 1.31 | 21.61 | 124.86 |
| Textiles and area rugs | 0.33 | 5.52 | 102.31 |
| Furniture | 1.07 | 17.76 | 99.49 |
| Major appliances | 0.35 | 5.86 | 119.73 |
| Small appliances, misc. housewares | 0.25 | 4.06 | 116.04 |
| Misc. household equipment | 1.25 | 20.66 | 108.65 |
| PEG Total |  | 100.00
4. Apparel and Services |  | 3.75 |  |  | 127.09
| Men and boys | 0.84 | 22.51 | 107.91 |
| Women and girls | 1.44 | 38.33 | 110.27 |
| Children under 2 | 0.19 | 5.18 | 121.60 |
| Footwear | 0.72 | 19.08 | 109.41 |
| Other apparel products and services | 0.56 | 14.90 | 223.87 |
| PEG Total |  | 100.00
5. Transportation |  | 16.36 |  |  | 121.37
| Motor vehicle costs | 8.97 | 54.85 | 108.56 |
| Gasoline and motor oil | 2.75 | 16.79 | 126.75 |
| Maintenance and repairs | 1.55 | 9.50 | 111.57 |
| Vehicle insurance | 1.79 | 10.92 | 83.83 |
| Public transportation | 1.30 | 7.95 | 261.81 |
| PEG Total |  | 100.00
6. Medical |  | 4.65 |  |  | 90.77
| Health insurance | 2.38 | 51.11 | 78.32 |
| Medical services | 1.40 | 30.12 | 99.65 |
| Drugs and medical supplies | 0.87 | 18.77 | 110.40 |
| PEG Total |  | 100.00
7. Recreation |  | 5.65 |  |  | 109.90
| Fees and admissions | 1.20 | 21.27 | 104.33 |
| Television, radios, sound equipment | 0.72 | 12.69 | 109.71 |
| Pets, toys, & playground equipment | 0.86 | 15.31 | 118.40 |
| Other entertainment supplies, etc | 1.28 | 22.69 | 102.74 |
| Personal care products | 0.72 | 12.72 | 121.58 |
| Personal care services | 0.54 | 9.57 | 94.99 |
| Reading | 0.32 | 5.75 | 135.52 |
| PEG Total |  | 100.00
8. Education and Communication |  | 4.01 |  |  | 101.43
| Education | 0.16 | 4.02 | 80.64 |
| Communications | 3.42 | 85.35 | 102.73 |
| Computers and computer services | 0.43 | 10.64 | 98.89 |
| PEG Total |  | 100.00
9. Miscellaneous |  | 11.69 |  |  | 104.46
| Tobacco products, etc | 0.46 | 3.93 | 127.28 |
| Miscellaneous | 1.69 | 14.45 | 123.45 |
| Personal insurance and pensions | 9.54 | 81.62 | 100.00 |
| PEG Total |  | 100.00
Overall Price Index | MEG Total | 100.00 |  |  | 123.58
Plus Adjustment Factor |  |  |  |  | 7.00
Index Plus Adjustment Factor |  |  |  |  | 130.58
MAUI COUNTY, HI
1. Food |  | 12.47 |  |  | 134.08
| Cereals and bakery products | 0.93 | 7.45 | 168.84 |
| Meats, poultry, fish, and eggs | 1.51 | 12.13 | 131.51 |
| Dairy products | 0.69 | 5.54 | 134.00 |
| Fruits and vegetables | 0.76 | 6.12 | 140.61 |
| Processed foods | 1.54 | 12.37 | 166.13 |
| Other food at home | 0.38 | 3.07 | 134.66 |
| Nonalcoholic beverages | 0.46 | 3.71 | 137.96 |
| Food away from home | 5.42 | 43.48 | 120.67 |
| Alcoholic beverages | 0.76 | 6.13 | 118.23 |
| PEG Total |  | 100.00
2. Shelter and Utilities |  | 35.37 |  |  | 148.36
| Shelter | 31.48 | 89.01 | 128.09 |
| Energy utilities | 3.17 | 8.97 | 363.28 |
| Water and other public services | 0.72 | 2.02 | 87.46 |
| PEG Total |  | 100.00
3. Household Furnishings and Supplies |  | 6.05 |  |  | 106.13
| Household operations | 1.48 | 24.52 | 92.79 |
| Housekeeping supplies | 1.31 | 21.61 | 123.00 |
| Textiles and area rugs | 0.33 | 5.52 | 102.31 |
| Furniture | 1.07 | 17.76 | 99.49 |
| Major appliances | 0.35 | 5.86 | 115.55 |
| Small appliances, misc. housewares | 0.25 | 4.06 | 111.79 |
| Misc. household equipment | 1.25 | 20.66 | 107.24 |
| PEG Total |  | 100.00
4. Apparel and Services |  | 3.75 |  |  | 125.84
| Men and boys | 0.84 | 22.51 | 125.02 |
| Women and girls | 1.44 | 38.33 | 114.10 |
| Children under 2 | 0.19 | 5.18 | 116.89 |
| Footwear | 0.72 | 19.08 | 115.95 |
| Other apparel products and services | 0.56 | 14.90 | 173.03 |
| PEG Total |  | 100.00
5. Transportation |  | 16.36 |  |  | 125.90
| Motor vehicle costs | 8.97 | 54.85 | 114.93 |
| Gasoline and motor oil | 2.75 | 16.79 | 133.65 |
| Maintenance and repairs | 1.55 | 9.50 | 101.69 |
| Vehicle insurance | 1.79 | 10.92 | 99.63 |
| Public transportation | 1.30 | 7.95 | 250.37 |
| PEG Total |  | 100.00
6. Medical |  | 4.65 |  |  | 95.93
| Health insurance | 2.38 | 51.11 | 78.85 |
| Medical services | 1.40 | 30.12 | 116.19 |
| Drugs and medical supplies | 0.87 | 18.77 | 109.95 |
| PEG Total |  | 100.00
7. Recreation |  | 5.65 |  |  | 106.87
| Fees and admissions | 1.20 | 21.27 | 95.25 |
| Television, radios, sound equipment | 0.72 | 12.69 | 109.47 |
| Pets, toys, & playground equipment | 0.86 | 15.31 | 130.22 |
| Other entertainment supplies etc | 1.28 | 22.69 | 98.62 |
| Personal care products | 0.72 | 12.72 | 120.70 |
| Personal care services | 0.54 | 9.57 | 98.52 |
| Reading | 0.32 | 5.75 | 97.78 |
| PEG Total |  | 100.00
8. Education and Communication |  | 4.01 |  |  | 101.31
| Education | 0.16 | 4.02 | 89.53 |
| Communications | 3.42 | 85.35 | 102.17 |
| Computers and computer services | 0.43 | 10.64 | 98.89 |
| PEG Total |  | 100.00
9. Miscellaneous |  | 11.69 |  |  | 102.64
| Tobacco products, etc | 0.46 | 3.93 | 134.73 |
| Miscellaneous | 1.69 | 14.45 | 108.83 |
| Personal insurance and pensions | 9.54 | 81.62 | 100.00 |
| PEG Total |  | 100.00
Overall Price Index | MEG Total | 100.00 |  |  | 127.49
Plus Adjustment Factor |  |  |  |  | 7.00
Index Plus Adjustment Factor |  |  |  |  | 134.49
GUAM AND THE NORTHERN MARIANA ISLANDS
1. Food |  | 12.47 |  |  | 116.75
| Cereals and bakery products | 0.93 | 7.45 | 139.65 |
| Meats, poultry, fish, and eggs | 1.51 | 12.13 | 89.24 |
| Dairy products | 0.69 | 5.54 | 165.86 |
| Fruits and vegetables | 0.76 | 6.12 | 101.18 |
| Processed foods | 1.54 | 12.37 | 152.42 |
| Other food at home | 0.38 | 3.07 | 133.74 |
| Nonalcoholic beverages | 0.46 | 3.71 | 140.37 |
| Food away from home | 5.42 | 43.48 | 105.43 |
| Alcoholic beverages | 0.76 | 6.13 | 100.03 |
| PEG Total |  | 100.00
2. Shelter and Utilities |  | 35.37 |  |  | 112.20
| Shelter | 31.48 | 89.01 | 92.00 |
| Energy utilities | 3.17 | 8.97 | 316.64 |
| Water and other public services | 0.72 | 2.02 | 94.73 |
| PEG Total |  | 100.00
3. Household Furnishings and Supplies |  | 6.05 |  |  | 113.30
| Household operations | 1.48 | 24.52 | 61.20 |
| Housekeeping supplies | 1.31 | 21.61 | 120.72 |
| Textiles and area rugs | 0.33 | 5.52 | 90.66 |
| Furniture | 1.07 | 17.76 | 98.07 |
| Major appliances | 0.35 | 5.86 | 175.35 |
| Small appliances, misc. housewares | 0.25 | 4.06 | 116.30 |
| Misc. household equipment | 1.25 | 20.66 | 168.30 |
| PEG Total |  | 100.00
4. Apparel and Services |  | 3.75 |  |  | 119.20
| Men and boys | 0.84 | 22.51 | 121.44 |
| Women and girls | 1.44 | 38.33 | 103.06 |
| Children under 2 | 0.19 | 5.18 | 129.68 |
| Footwear | 0.72 | 19.08 | 113.80 |
| Other apparel products and services | 0.56 | 14.90 | 160.57 |
| PEG Total |  | 100.00
5. Transportation |  | 16.36 |  |  | 150.53
| Motor vehicle costs | 8.97 | 54.85 | 113.75 |
| Gasoline and motor oil | 2.75 | 16.79 | 122.00 |
| Maintenance and repairs | 1.55 | 9.50 | 89.06 |
| Vehicle insurance | 1.79 | 10.92 | 147.39 |
| Public transportation | 1.30 | 7.95 | 542.50 |
| PEG Total |  | 100.00
6. Medical |  | 4.65 |  |  | 99.47
| Health insurance | 2.38 | 51.11 | 97.04 |
| Medical services | 1.40 | 30.12 | 96.52 |
| Drugs and medical supplies | 0.87 | 18.77 | 110.82 |
| PEG Total |  | 100.00
7. Recreation |  | 5.65 |  |  | 108.24
| Fees and admissions | 1.20 | 21.27 | 79.65 |
| Television, radios, sound equipment | 0.72 | 12.69 | 123.99 |
| Pets, toys, & playground equipment | 0.86 | 15.31 | 124.92 |
| Other entertainment supplies, etc | 1.28 | 22.69 | 111.01 |
| Personal care products | 0.72 | 12.72 | 135.23 |
| Personal care services | 0.54 | 9.57 | 78.87 |
| Reading | 0.32 | 5.75 | 113.10 |
| PEG Total |  | 100.00
8. Education and Communication |  | 4.01 |  |  | 137.47
| Education | 0.16 | 4.02 | 153.41 |
| Communications | 3.42 | 85.35 | 140.84 |
| Computers and computer services | 0.43 | 10.64 | 104.39 |
| PEG Total |  | 100.00
9. Miscellaneous |  | 11.69 |  |  | 104.39
| Tobacco products, etc | 0.46 | 3.93 | 85.63 |
| Miscellaneous | 1.69 | 14.45 | 134.31 |
| Personal insurance and pensions | 9.54 | 81.62 | 100.00 |
| PEG Total |  | 100.00
Overall Price Index | MEG Total | 100.00 |  |  | 118.65
Plus Adjustment Factor |  |  |  |  | 9.00
Index Plus Adjustment Factor |  |  |  |  | 127.65

[FR Doc. 05-15099 Filed 8-3-05; 8:45 am]

BILLING CODE 6325-39-P